DEPARTMENT OF AGRICULTURE

Office of the Secretary

7 CFR Part 2

RIN 0503-AA37

Revision of Delegations of Authority

AGENCY: Office of the Secretary, USDA.

ACTION: Final rule.

SUMMARY: This document revises the delegations of authority from the Secretary of Agriculture and general officers of the Department of Agriculture (USDA) principally to reflect changes and additions to the delegations required by the Food, Conservation, and Energy Act of 2008 (FCEA), Public Law 110-246. Other additions, deletions, and changes are made as summarized below.

DATES: Effective Date: Effective January 21, 2009.

FOR FURTHER INFORMATION CONTACT: Adam J. Hermann, Office of the General Counsel, USDA, 1400 Independence Avenue, SW., Washington, DC 20250, (202) 720-9425, adam.hermann@ogc.usda.gov.

SUPPLEMENTARY INFORMATION:

Food, Conservation, and Energy Act of 2008

The Secretary of Agriculture (Secretary) previously delegated authorities under the Food, Conservation, and Energy Act of 2008, Public Law 110-246 (FCEA), in Secretary's Memorandum (SM) 1053-001 (July 1, 2008). This rule codifies those delegations and makes other changes to existing delegations required by FCEA, as follows.

Title I of FCEA renews a number of commodity programs already delegated by the Secretary to the Under Secretary for Farm and Foreign Agricultural Services (FFAS) under 7 CFR 2.16, and by the Under Secretary for FFAS to the Administrator of the Farm Service Agency (FSA) under 7 CFR 2.42. Those existing delegations cover all production-related commodity programs of the Commodity Credit Corporation (CCC) of USDA not otherwise delegated by the Secretary including programs that are marketing-related or disaster-related. FCEA does contain “permanent” disaster provisions, which are found in sections 12033 and 15101 (which are duplicative of each other). Because the new disaster provisions are not consigned to CCC, the current delegations in 7 CFR 2.16 and 2.42 are amended to add a reference to allow for coverage of non-CCC disaster programs and other income support commodity programs that might be enacted at some point but which might not be CCC programs. A specific delegation for the disaster provisions in sections 12033 and 15101 of FCEA is also added to 7 CFR 2.16 and 2.42.

In addition, title I of FCEA includes a number of new authorities that do not as such fit within the current delegations and are delegated herein to the Administrator of FSA through the Under Secretary for FFAS, as follows: Section 1605 (quality incentive payments for covered oilseed producers); section 1609 (tracking of benefits); section 1612 (hard white wheat development program); section 1613 (durum wheat quality program); and section 1621 (payments to geographically disadvantaged farmers and ranchers).

Additionally, section 1502 of FCEA provides authority for a dairy forward pricing program, and section 1509 of FCEA directs the Secretary to establish a Federal Milk Marketing Order Review Commission to conduct a comprehensive review and evaluation of the Federal milk marketing order system and non-Federal marketing order systems. The delegations at 7 CFR 2.22 and 2.79 are amended to reflect the delegation of these authorities to the Under Secretary for Marketing and Regulatory Programs (MRP) and the Administrator of the Agricultural Marketing Service (AMS).

Section 1510 of FCEA amended the Dairy Product Mandatory Reporting provisions of title II, subtitle C, of the Agricultural Marketing Act of 1946, to include provisions for the establishment of an electronic reporting system and for quarterly audits of information submitted or reported under that act. A new provision is added to 7 CFR 2.22 and 2.79 to reflect that the Under Secretary for MRP and Administrator of AMS are delegated lead responsibility to administer the Dairy Product Mandatory Reporting provisions of title II, subtitle C, of the Agricultural Marketing Act of 1946. Existing delegations at 7 CFR 2.21 and 2.68 are amended to reflect an ancillary delegation to the Under Secretary for Research, Education, and Economics (REE) and the Administrator of the National Agricultural Statistics Service (NASS).

Title I of FCEA also included requirements relating to the disclosure and release of information. The delegations at 7 CFR 2.16, 2.17, 2.20, 2.22, 2.42, 2.48, 2.49, 2.60, 2.61, and 2.80 are amended to reflect the delegation of the Secretary's information disclosure authorities in section 1619(b)(3) to the Under Secretaries for FFAS, Rural Development (RD), Natural Resources and Environment (NRE), and MRP, the Administrators of FSA, the Rural Business-Cooperative Service (RBS), and the Rural Housing Service (RHS), the Chiefs of the Forest Service and Natural Resources Conservation Service (NRCS), and the Administrator of the Animal and Plant Health Inspection Service (APHIS), respectively.

Also, the delegations to the Under Secretary for FFAS in 7 CFR 2.16 and the Administrator of FSA in 7 CFR 2.42 are amended by removing outdated references to programs that are no longer in existence.

Title II of FCEA made numerous amendments to the Conservation title (title XII) of the Food Security Act of 1985, 16 U.S.C. 3801 et seq., to revise or extend existing program and funding authority and to provide some new authority. Several of these revised authorities were previously delegated or otherwise fit within existing delegations to the Under Secretary for NRE (7 CFR 2.20) and Chief of NRCS (7 CFR 2.61), or to the Under Secretary for FFAS (7 CFR 2.16) and Administrator of FSA (7 CFR 2.42), and, thus, do not need further action.

The following sections of title II of FCEA provided authorities that require delegations: Section 2301 (new Conservation Stewardship Program authority); section 2710 (authority to utilize services from experienced agriculture conservation technical service providers); and section 2711 (revised authority to establish and utilize State technical committees). The delegations at 7 CFR 2.20 are amended to reflect the delegation of these authorities to the Under Secretary for NRE, and the delegations at 7 CFR 2.61 are amended to reflect the delegation of these authorities by the Under Secretary for NRE to the Chief of NRCS.

Section 2403 of FCEA amends the Grassland Reserve Program (GRP) under title XII of the Food Security Act of 1985. New provisions are added to 7 CFR 2.16 and 2.42 to reflect the delegation of the authority to administer the GRP to the Under Secretary for FFAS (in cooperation with the Under Secretary for NRE) and the Administrator of FSA (with respect to those aspects of the GRP that are or become the responsibility of the Under Secretary for FFAS). New provisions also are added to 7 CFR 2.20 and 2.61 to reflect the delegation of the authority to administer the GRP to the Under Secretary for NRE (in cooperation with the Under Secretary for FFAS) and the Chief of NRCS (with respect to those aspects of the GRP that are or become the responsibility of the Under Secretary for NRE).

Section 2606 of FCEA requires the establishment of a voluntary public access and habitat incentive program. The delegations at 7 CFR 2.16 and 2.42 are amended to reflect the delegation of this authority to the Under Secretary for FFAS and the Administrator of FSA.

Section 2702 of FCEA provides authority to accept and use contributions of non-Federal funds to support conservation programs under subtitle D of title XII of the Food Security Act of 1985. The delegations at 7 CFR 2.16 are amended to reflect the delegation of this authority to the Under Secretary for FFAS (with respect to those conservation programs delegated to the Under Secretary for FFAS), and the delegations at 7 CFR 2.42 are amended to reflect the delegation of this authority to the Administrator of FSA (with respect to programs delegated to the Administrator of FSA). The delegations at 7 CFR 2.20 are amended to reflect the delegation of this authority to the Under Secretary for NRE (with respect to those conservation programs delegated to the Under Secretary for NRE), and the delegations at 7 CFR 2.61 are amended to reflect the delegation of this authority to the Chief of NRCS (with respect to those programs delegated to the Chief of NRCS).

Other miscellaneous amendments are made to the delegations at 7 CFR 2.20 and 2.61 to correct descriptions.

Section 3205 of FCEA established a Consultative Group to Eliminate the Use of Child Labor and Forced Labor in Imported Agricultural Products. The Consultative Group will include two representatives from USDA, as determined by the Secretary. Not later than two years after the date of enactment of FCEA, the Consultative Group must submit to the Secretary recommendations relating to standard practices for independent monitoring and verification for the production, processing, and distribution of agricultural products or commodities to reduce the likelihood that agricultural products or commodities imported into the United States are produced with the use of forced labor or child labor. Not later than one year after receiving the Consultative Group's recommendations, the Secretary must release guidelines for a voluntary initiative to enable entities to address issues raised by the Trafficking Victims Protection Act of 2000. This rule amends 7 CFR 2.16 and 2.43 to add the lead delegation of these authorities to the Under Secretary for FFAS and the Administrator of the Foreign Agricultural Service (FAS), and 7 CFR 2.22 and 2.79 to add an ancillary delegation to the Under Secretary for MRP and the Administrator of AMS.

Section 3206 of FCEA requires the Secretary to initiate a study of prior local and regional procurements for food aid programs conducted by other donor countries, private voluntary organizations, and the World Food Programme of the United Nations; provide grants to, or enter into cooperative agreements with, eligible organizations to carry out field-based projects that consist of local or regional procurements of eligible commodities to respond to food crises and disasters; and ensure that an independent third party conducts an independent evaluation of all such field-based projects not later than November 1, 2011. The delegations at 7 CFR 2.16 and 2.43 are amended to reflect that the Under Secretary for FFAS and the Administrator of FAS are delegated these authorities.

Section 4001 of FCEA renamed the Food Stamp Act of 1977 the Food and Nutrition Act of 2008. This section also struck all references to the Food Stamp Program and replaced them with the Supplemental Nutrition Assistance Program. The delegations at 7 CFR 2.19 and 2.57 are amended to reflect these changes.

Section 4142 of FCEA directs the Secretary to carry out a study of the feasibility and effects of treating Puerto Rico the same as one of the States under the Supplemental Nutrition Assistance Program in lieu of the block grant it currently receives. This section includes an assessment of the administrative impact, the appropriate income eligibility, benefit, and deduction levels, and the effect on low-income Puerto Ricans. The delegations at 7 CFR 2.19 and 2.57 are amended to reflect that the Under Secretary for Food, Nutrition, and Consumer Services (FNCS) and the Administrator of the Food and Nutrition Service (FNS) are delegated the responsibility to conduct the study and prepare the report to Congress.

Section 4301 of FCEA requires the Secretary to submit to Congress annually a report on the effectiveness of each State in automatically enrolling school-aged children for free school meals using “direct certification” based on their participation in the Supplemental Nutrition Assistance Program. The delegations at 7 CFR 2.19 and 2.57 are amended to reflect that the Under Secretary for FNCS and the Administrator of FNS are delegated this responsibility.

Section 4305 of FCEA requires the Secretary to purchase whole grains and whole grain products for use in the National School Lunch Program and the School Breakfast Program. This section further requires an evaluation and report by the Secretary. The delegations at 7 CFR 2.19 and 2.57 are amended to reflect that the Under Secretary for FNCS and the Administrator of FNS are delegated these responsibilities.

Section 4307 of FCEA requires the Secretary to carry out a nationally representative survey of the foods purchased by school food authorities participating in the National School Lunch Program during the most recent school year for which data are available. This section further requires a report on the results of the survey. The delegations at 7 CFR 2.19 and 2.57 are amended to reflect that the Under Secretary for FNCS and the Administrator of FNS are delegated these responsibilities.

Section 4401 of FCEA amends section 4404 of the Farm Security and Rural Investment Act of 2002 (2 U.S.C. 1161) and directs the Secretary to offer to provide a grant to the Congressional Hunger Center to administer the Bill Emerson National Hunger Fellowship Program and the Mickey Leland International Hunger Fellowship Program. The delegations at 7 CFR 2.19 and 2.57 are amended to reflect that the Under Secretary for FNCS and the Administrator of FNS are delegated the authority to provide the grant for the Bill Emerson and Mickey Leland Fellowships.

Section 4403 of FCEA requires that the Secretary continue joint efforts with the Department of Health and Human Services for national nutrition monitoring and related research activities. The delegations at 7 CFR 2.19 are amended to reflect that the Under Secretary for FNCS is delegated the responsibility to continue these monitoring and research functions.

Section 4405 of FCEA authorizes appropriations for Hunger-Free Communities Collaborative Grants and Hunger-Free Communities Infrastructure Grants and directs the Secretary to report to Congress on the activities carried out under this authority and the degrees of the success of each activity. The delegations at 7 CFR 2.19 and 2.57 are amended to reflect that the Under Secretary for FNCS and the Administrator of FNS are delegated these authorities.

Section 4406(c)(2) of FCEA extends the authority of the Secretary to carry out the Nutrition Information and Awareness Pilot Project in section 4403 of the Farm Security and Rural Investment Act of 2002 (7 U.S.C. 3171 note). The delegations at 7 CFR 2.19 and 2.57 are amended to reflect that the Under Secretary for FNCS and the Administrator of FNS are delegated the responsibility for this pilot project.

Title IV of FCEA (section 4402(3)) also included new grant authority to establish and support a healthy urban food enterprise development center to increase access to healthy affordable foods, including locally produced agricultural products, to underserved communities. That authority has been delegated through the Under Secretary for REE to the Administrator of the Cooperative State Research, Education, and Extension Service (CSREES), and the delegations at 7 CFR 2.21 and 2.66 have been amended accordingly.

Title V of FCEA established a conservation loan and loan guarantee program (section 5002) and provided expanded authority to make loans to certain purchasers of highly fractionated land (section 5501). The delegations at 7 CFR 2.16, 2.17, 2.42, and 2.48 are revised to reflect that these authorities are delegated to the Under Secretary for FFAS and Administrator of FSA.

Section 6013(d) of FCEA amended section 310B of the Consolidated Farm and Rural Development Act (7 U.S.C. 1932) to provide the Secretary with authority to enter into cooperative research agreements with qualified academic institutions to conduct research on the effects of cooperatives on the national economy. Additionally, section 6013(e) of FCEA amended section 310B of the Consolidated Farm and Rural Development Act to provide the Secretary with the authority to administer a grants program to address the needs of minority communities. Additionally, section 6016 of FCEA amended section 310B of the Consolidated Farm and Rural Development Act to direct the Secretary to establish the Appropriate Technology Transfer for Rural Areas Program. The delegations at 7 CFR 2.17 and 2.48 to the Under Secretary for RD and Administrator of RBS are amended to include these additional authorities by making a general reference to section 310B of the Consolidated Farm and Rural Development Act without listing specific authorities in that section.

Section 6018(b) of FCEA directs the Secretary to prepare and submit a report on the definitions of “rural” and “rural area.” The delegations at 7 CFR 2.17 are amended to reflect that the Under Secretary for RD is delegated responsibility for this report.

Section 6022 of FCEA directs the Secretary to establish a Rural Microentrepreneur Assistance Program to provide loans and grants to support microentrepreneurs in the development and ongoing success of rural microenterprises. The delegations at 7 CFR 2.17 and 2.48 are amended to reflect that the Under Secretary for RD and the Administrator of RBS are delegated the responsibility for this program. Section 6023 of FCEA directs the Secretary to establish the Expansion of Employment Opportunities for Individuals with Disabilities in Rural Areas Program. This grant program is intended to expand and enhance employment opportunities for individuals with disabilities in rural areas. The delegations at 7 CFR 2.17 and 2.48 are amended to reflect that the Under Secretary for RD and the Administrator of RBS are delegated the responsibility for this program.

Section 6024 of FCEA directs the Secretary to establish a Health Care Services Program to award a grant to an eligible entity for the development of health care services, health education programs, and health care job training programs and the development and expansion of public health-related facilities in the Delta region to address longstanding and unmet health needs of the region. The delegations at 7 CFR 2.17 and 2.48 are amended to reflect that the Under Secretary for RD and the Administrator of RBS are delegated the responsibility for this program.

Section 6025 of FCEA reauthorized the Delta Regional Authority. The delegations at 7 CFR 2.17 and 2.48 are amended to reflect that the Under Secretary for RD and Administrator of RBS are delegated responsibility for this program.

Section 6026 of FCEA reauthorized and made several modifications to the Northern Great Plains Regional Authority. The delegations at 7 CFR 2.17 and 2.48 are amended to reflect that the Under Secretary for RD and Administrator of RBS are delegated responsibility for this program.

Section 6028 of FCEA directs the Secretary to establish a Rural Collaborative Investment Program to support comprehensive regional investment strategies for achieving rural competitiveness. The existing delegations to the Under Secretary for RD and Administrator of RBS at 7 CFR 2.17 and 2.48 are amended by removing references to the Rural Strategic Investment Program and adding references to the Rural Collaborative Investment Program.

Title VII of FCEA provided a number of new research, education, economics, and extension authorities to the Secretary. The delegations at 7 CFR 2.21 are amended to reflect the delegation of these authorities to the Under Secretary for REE, and the delegations at 7 CFR 2.65 and 2.66 are amended to reflect the further delegation of these authorities by the Under Secretary for REE to the Administrators of the Agricultural Research Service (ARS) and CSREES, respectively, as follows: A program of competitive grants for fundamental and applied research, extension, and education, known as the Agriculture and Food Research Initiative (CSREES); a program of facilities and equipment grants to assist the land-grant university in the District of Columbia (CSREES); a program of facilities and equipment grants to assist insular area land-grant institutions (CSREES); a program of endowment and other payments, institutional capacity-building grants, and competitive fundamental and applied research grants for Hispanic-serving agricultural colleges and universities (CSREES); a New Era Rural Technology Program to provide grants for technology development, applied research, and training to aid in the development of an agriculture-based renewable energy workforce (CSREES); a capacity-building grants program for non-land-grant colleges of agriculture (CSREES); an Agricultural Bioenergy Feedstock and Energy Efficiency Research and Extension Initiative to enhance production of biomass energy crops and the energy efficiency of agricultural operations (CSREES); a research and extension grants program to improve farm management knowledge and skills of agricultural producers and maintain a publicly available financial management database (CSREES); a Specialty Crop Research Initiative (CSREES); broad authority to exchange, sell, acquire, and dispose of animals, animal products, plants, and plant products in carrying out the research functions of the Department (ARS); a pilot program to lease nonexcess property at the Beltsville Agricultural Research Center and the National Agricultural Library (ARS); broad authority to lease land at the Grazinglands Research Laboratory at El Reno, Oklahoma (ARS); a research and education grants program relating to antibiotics and antibiotic-resistant bacteria (CSREES); a grants program to establish and maintain a Farm and Ranch Stress Assistance Network (CSREES); a grants program relating to seed distribution (CSREES); a research program for natural products (ARS); a Sun Grants Program (CSREES); and a grants program relating to agricultural and rural transportation research and education (CSREES).

A new delegation to the Administrator of CSREES, through the Under Secretary for REE, has been added for the program of providing grants to Alaska Native and Native Hawaiian serving institutions under 7 U.S.C. 3156. The FCEA (section 7112) amended and re-authorized the program.

Title VII (section 7139) also provided a new authority to provide fellowships for scientific training and study in the United States to individuals from eligible countries who specialize in agricultural education, research, and extension, known as the Borlaug International Agricultural Science and Technology Fellowship Program. The delegations at 7 CFR 2.16 and 2.43 are amended to reflect the delegation of this authority to the Under Secretary for FFAS and the Administrator of FAS.

Additionally, a new delegation to the Administrator of FAS, through the Under Secretary for FFAS, has been added for the agricultural biotechnology research and development grant program for developing countries under 7 U.S.C. 7631. FCEA (section 7310) reauthorized the program.

Additionally, section 7524 of FCEA directs the Secretary to issue a permit to the Secretary of Homeland Security for work on the live virus of foot and mouth disease at a successor facility to the Plum Island Animal Disease Center. The delegations at 7 CFR 2.22 and 2.80 are amended to reflect that the Under Secretary for MRP and the Administrator of APHIS are delegated this authority, except that the authority to suspend, revoke, or impair the permit is reserved to the Secretary.

The existing delegations to the Under Secretary for REE and the Administrators of ARS and CSREES also have been amended by removing delegations of authorities that were repealed by FCEA and making other miscellaneous changes required by FCEA.

Title VIII of FCEA (section 8205) revised the authority for the Healthy Forests Reserve Program, Title V of the Healthy Forests Restoration Act of 2003 (16 U.S.C. 6571-6578) as to enrollment of lands, including lands owned by Indian tribes, and as to funding. The delegations at 7 CFR 2.20 and 2.61 are amended to reflect that the authority to administer the Healthy Forests Reserve Program is delegated to the Under Secretary for NRE and the Chief of NRCS.

Section 8402 provided new authority to administer a competitive grants program for the purpose of establishing an undergraduate scholarship program to assist in the recruitment, retention, and training of Hispanics and other under-represented groups in forestry and related fields. The delegations at 7 CFR 2.21 and 2.66 are amended to reflect the delegation of this authority to the Under Secretary for REE and the Administrator of CSREES.

Title IX of FCEA provides additional authorities relating to energy, including section 9001, which is a substitute amendment for title IX of the Farm Security and Rural Investment Act of 2002 (7 U.S.C. 8101—8113).

Five authorities in this amendment are delegated through the Under Secretary for RD to the Administrator of RBS: A Biorefinery Assistance Program (“section 9003”); a Repowering Assistance Program (“section 9004”); a Bioenergy Program for Advanced Biofuels (“section 9005”); a Rural Energy for America Program (“section 9007”); and a Rural Energy Self-Sufficiency Initiative (“section 9009”). The delegations at 7 CFR 2.17 and 2.48 are amended to reflect the delegation of these authorities to the Under Secretary for RD and Administrator of RBS.

One authority in this amendment—administration of the Biomass Research and Development Program (“section 9008”) in consultation with other mission areas of the Department as appropriate—is delegated to the Under Secretary for REE. One component of the Biomass Research and Development Program—the Biomass Research and Development Initiative—is further delegated to the Administrator of CSREES. The delegations at 7 CFR 2.21 and 2.66 are amended to reflect the delegation of these authorities.

Two authorities in this amendment are delegated through the Under Secretary for FFAS to the Administrator of FSA: A feedstock flexibility program for bioenergy producers (“section 9010”); and a biomass crop assistance program (“section 9011”). The delegations at 7 CFR 2.16 and 2.42 are amended to reflect the delegation of these authorities to the Under Secretary for FFAS and Administrator of FSA.

Two authorities in this amendment are delegated through the Under Secretary for NRE to the Chief of the Forest Service: A competitive research and development program to encourage the use of forest biomass for energy (“section 9012”); and a program to provide grants to State and local governments to develop community wood energy plans and to acquire and upgrade community wood energy systems (“section 9013”). The delegations at 7 CFR 2.20 and 2.60 are amended to reflect the delegation of these authorities to the Under Secretary for NRE and Chief of the Forest Service.

Additionally, the existing delegations to the Under Secretary for RD and Administrator of RBS, in 7 CFR 2.17 and 2.48, respectively, are amended by removing delegations of energy authorities repealed by FCEA. The existing delegations to the Chief Economist and the Director of the Office of Energy Policy and New Uses (OEPNU), in 7 CFR 2.29 and 2.73, respectively, are amended by correcting statutory citations.

The delegations for the Chief Economist and Director of OEPNU also are amended to add a delegation to conduct a study on biofuels infrastructure in section 9002 of FCEA.

Section 10105 of FCEA authorizes a food safety education program for fresh produce, and section 10107 requires that market news activities provide timely price and shipping information concerning specialty crops in the United States and that reporting levels be increased for specialty crops. The delegations at 7 CFR 2.22 and 2.79 are amended to reflect the delegation of these authorities to the Under Secretary for MRP and the Administrator of AMS.

Section 10109 of FCEA amended the Specialty Crops Competitiveness Act of 2004, including section 101 of that act relating to specialty crop block grants. The delegations at 7 CFR 2.22 and 2.79 are amended to reflect that the Under Secretary for MRP and Administrator of AMS are delegated the authority to administer the provisions of section 101 of the Specialty Crops Competitiveness Act of 2004.

Section 10202 of FCEA provides authority to establish a National Clean Plant Network, and section 10204 directs the Secretary to develop regulations to improve management and oversight of certain regulated articles. The delegations at 7 CFR 2.22 and 2.80 are amended to reflect the delegation of these authorities to the Under Secretary for MRP and the Administrator of APHIS.

Section 10205 of FCEA includes authority to provide loans to units of local government to finance the purchase of equipment necessary for the management of forest land, which must be used to monitor, remove, dispose of, and replace infested trees on land under the jurisdiction of the local government or within the borders of a quarantined area. The delegations at 7 CFR 2.20 and 2.60 are amended to reflect the delegation of this authority to the Under Secretary for NRE and the Chief of the Forest Service.

Section 10302 of FCEA provides authorities regarding the collection and reporting of data on the production and marketing of organic agricultural products. The delegations at 7 CFR 2.22 and 2.79 are amended to reflect that the Under Secretary for MRP and Administrator of AMS are delegated the responsibility to collect and distribute comprehensive reporting of prices relating to organically produced agricultural products. The delegations at 7 CFR 2.21 and 2.67 are amended to reflect that the Under Secretary for REE and Administrator of the Economic Research Service (ERS) are delegated the responsibility to conduct surveys and analysis and publish reports relating to organic production, handling, distribution, retail, and trend studies. The delegations at 7 CFR 2.21 and 2.68 are amended to reflect that the Under Secretary for REE and Administrator of NASS are delegated the responsibility to develop surveys and report statistical analysis on organically produced agricultural products.

Section 10403 of FCEA authorizes a grant program to improve the movement of specialty crops. The delegations at 7 CFR 2.22 and 2.79 are amended to reflect the delegation of this authority to the Under Secretary for MRP and Administrator of AMS.

Section 10404 of FCEA provides authority to make payments to certain producers of asparagus crops. The delegations at 7 CFR 2.16 and 2.42 are amended to reflect that the Under Secretary for FFAS and Administrator of FSA are delegated this responsibility.

Title XI of FCEA provides several new authorities relating to livestock. Section 11001 amended the Livestock Mandatory Reporting provisions of title II, subtitle B, of the Agricultural Marketing Act of 1946, to include under the current electronic reporting and publishing section of that act provisions for improvement and education. A new provision is added to 7 CFR 2.22 and 2.79 to reflect that the Under Secretary for MRP and Administrator of AMS are delegated the authority to administer the Livestock Mandatory Reporting provisions of title II, subtitle B, of the Agricultural Marketing Act of 1946.

Section 11006 of FCEA requires the Secretary to promulgate regulations with respect to the Packers and Stockyards Act, 1921 (7 U.S.C. 181 et seq.), to establish criteria that the Secretary will consider in determining whether regulated entities have violated that act and whether live poultry dealers and swine contractors have acted reasonably in their dealings with contract growers. The delegations at 7 CFR 2.22 and 2.81 are amended to reflect that this authority is delegated through the Under Secretary for MRP to the Administrator, Grain Inspection, Packers and Stockyards Administration.

Section 11009 of FCEA amended a provision concerning funding for the National Sheep Industry Improvement Center under section 375 of the Consolidated Farm and Rural Development Act and provided for repeal of a provision in that section requiring privatization of the revolving fund. The delegations at 7 CFR 2.16, 2.22, 2.42, and 2.79 are amended to reflect the delegation of authority for this program to the Under Secretary for MRP and Administrator of AMS.

Title XI of FCEA also amended the Federal Meat Inspection Act and the Poultry Products Inspection Act to provide for the interstate shipment of meat and poultry inspected by Federal and state agencies and to require federally inspected meat and poultry establishments to notify the Secretary of the receipt or shipment of adulterated or misbranded meat or poultry product in commerce, to prepare and maintain recall plans, and to document each reassessment of its process control plans. The delegations at 7 CFR 2.18 and 2.53 are amended to reflect that the Under Secretary for Food Safety and the Administrator of the Food Safety and Inspection Service are delegated these authorities.

Title XII of FCEA (section 12014) requires the Secretary to conduct a study and issue a report on the efficacy and accuracy of the application of pack factors regarding the measurement of farm-stored production for purposes of providing policies or plans of insurance under the Federal Crop Insurance Act (7 U.S.C. 1501 et seq.). The delegations at 7 CFR 2.16 and 2.44 are amended to reflect that this authority is delegated to the Under Secretary for FFAS and the Administrator of the Risk Management Agency.

Title XIV of FCEA provides a number of new miscellaneous authorities to the Secretary. Section 14003 amended section 2501A of the Food, Agriculture, Conservation, and Trade Act of 1990 (7 U.S.C. 2279-1) by directing the Secretary to issue receipts for service or denials of service to current or prospective producers or landowners who request such a receipt at the time they request a benefit or service from FSA, NRCS, or an agency of the RD mission area. The delegations at 7 CFR 2.16 and 2.42 are amended to reflect that the Under Secretary for FFAS and the Administrator of FSA are delegated lead coordinating responsibility for the issuance of such receipts, as well as the authority to issue receipts with respect to FSA. The delegations at 7 CFR 2.17, 2.47, 2.48, and 2.49 are amended to reflect that the Under Secretary for RD and the Administrators of the Rural Utilities Service (RUS), RBS, and RHS are delegated the authority to issue receipts with respect to RUS, RBS, and RHS, respectively, in coordination with the lead agency. Additionally, the delegations at 7 CFR 2.20 and 2.61 are amended to reflect that the Under Secretary for NRE and the Chief of NRCS are delegated the authority to issue receipts with respect to NRCS, in coordination with the lead agency.

Section 14005 of FCEA directs the Secretary to ensure that the Census of Agriculture conducted by NASS and studies conducted by the Economic Research Service (ERS) document certain information regarding socially disadvantaged farmers and ranchers in agricultural production. The delegations at 7 CFR 2.21 and 2.68 are amended to reflect the delegation of these responsibilities with respect to the Census of Agriculture to the Under Secretary for REE and the Administrator of NASS. The delegations at 7 CFR 2.21 and 2.67 are amended to reflect the delegation of these responsibilities with respect to ERS studies to the Under Secretary for REE and the Administrator of ERS.

Section 14111 of FCEA established the Office of Homeland Security (“OHS”) within the Department. The current delegations at 7 CFR 2.32 to the Director, Homeland Security Staff are amended to reflect the establishment of OHS and the delegation of authorities to the Director, OHS. Additionally, the 7 CFR 2.32 delegations are amended to reflect the delegation of the Secretary's authority in FCEA section 14112 (establishment of a communication center within the Department to collect and disseminate information and prepare for agricultural biosecurity emergencies and threats) and FCEA section 14113 (competitive grants program to support development and expansion of advanced training programs in agricultural biosecurity planning and response for food science professionals and veterinarians; competitive grants and low-interest loan assistance program to assist States in assessing agricultural disease response capability) to the Director, OHS. Finally, the delegations in 7 CFR 2.32 are amended by making other miscellaneous updates and corrections.

Title XIV of FCEA also provided the following two authorities that have been delegated through the Under Secretary for REE to the Administrator of CSREES: A competitive grant program for the development of qualified agricultural countermeasures (section 14121); and a competitive grant program for the development of teaching programs to increase the number of trained individuals with an expertise in agricultural biosecurity (section 14122). 7 CFR 2.21 and 2.66 are amended to reflect these delegations.

Section 14208 of FCEA requires the submission of reports to Congress on conferences sponsored or held by the Department or attended by employees of the Department. The delegations at 7 CFR 2.28 are amended to reflect that the Chief Financial Officer (CFO) is delegated this responsibility.

Section 14211 provides new debarment authorities to the Secretary with respect to participation in USDA programs. The delegations at 7 CFR 2.28 are amended to reflect that the CFO is delegated lead responsibility to administer the debarment authorities in section 14211, in coordination with the Assistant Secretary for Administration (ASA). The delegations at 7 CFR 2.24 and 2.93 are amended to delegate the authority to implement the debarment authorities in section 14211 to the ASA and the Director, Office of Procurement and Property Management (OPPM) with respect to procurement activities, in coordination with the CFO.

Section 14212 of FCEA established several requirements regarding the closure or relocation of FSA county or field offices. The delegations at 7 CFR 2.16 and 2.42 are amended to reflect the delegation of these responsibilities to the Under Secretary for FFAS and Administrator of FSA.

Section 14216 of FCEA directs the Secretary to review recommendations on the use of dogs and cats in Federally supported research and report to Congress. The delegations at 7 CFR 2.22 and 2.80 are amended to reflect the delegation of this authority to the Under Secretary for MRP and Administrator of APHIS.

Section 14218 of FCEA requires the Secretary to establish a Coordinator for Chronically Underserved Rural Areas to be located in the Rural Development Mission Area. The delegations at 7 CFR 2.17 are amended to reflect that the Under Secretary for RD is delegated the responsibility for establishing the Coordinator.

Section 14220 of FCEA authorizes the Secretary to make available to organizations surplus computers and technical equipment for the purpose of distribution to municipalities in rural areas. The delegations at 7 CFR 2.24 and 2.93 are amended to reflect the delegation of this authority to the ASA and the Director of OPPM.

Finally, section 15353 established certain information reporting requirements pertaining to CCC transactions. The delegations at 7 CFR 2.16 and 2.42 are amended to reflect the delegation of these responsibilities to the Under Secretary for FFAS and Administrator of FSA.

Disaster Relief and Recovery Supplemental Appropriations Act, 2008

Section 10101 of the Disaster Relief and Recovery Supplemental Appropriations Act, 2008, established the Rural Development Disaster Assistance Fund to provide additional amounts for authorized activities of agencies of the Rural Development Mission Area in areas affected by a disaster declared by the President or the Secretary. The delegations at 7 CFR 2.17 are amended to reflect that the Under Secretary for RD is delegated responsibility for this Fund.

Other Delegations

A new delegation to the Chief of NRCS, through the Under Secretary for NRE, has been added for the authority to permit employees of NRCS to carry and use firearms for personal protection while conducting field work in remote locations in the performance of their official duties. This rule codifies the delegation of this authority made by the Secretary in a Secretary's Memorandum dated October 20, 2008.

A new delegation to the Under Secretary for FNCS has been added for the authority to enter into contracts, grants, and cooperative agreements under section 1472 of the National Agricultural Research, Extension, and Teaching Policy Act of 1977 (7 U.S.C. 3318). This rule codifies the delegation of this authority made by the Secretary in a Secretary's Memorandum dated November 4, 2008.

Miscellaneous

A number of miscellaneous minor changes have been made to the delegations for other reasons, including to correct citations and descriptions and delete obsolete authorities.

To correspond to the revision of delegations of authority made in 2003 (68 FR 27431), 7 CFR 2.81(a) is revised to reflect the change in the title of the policy official responsible for Marketing and Regulatory Programs from Assistant Secretary to Under Secretary. This paragraph is also revised to reflect the establishment of the agency that is responsible for all programs and activities formerly performed by the Federal Grain Inspection Service and by the Packers and Stockyards Administration as the Grain Inspection, Packers and Stockyards Administration. The Grain Inspection, Packers and Stockyards Administration was established by Secretary's Memorandum 1010-1 and codified in the regulations by the 1995 revision of delegations of authority (60 FR 56392).

The delegations at 7 CFR 2.79 also are revised to reflect the change in the title of the policy official responsible for Marketing and Regulatory Programs from Assistant Secretary to Under Secretary.

Classification

Finally, this rule relates to internal agency management. Accordingly, pursuant to 5 U.S.C. 553, notice of proposed rulemaking and opportunity for comment are not required, and this rule may be made effective less than 30 days after publication in the Federal Register. This rule also is exempt from the provisions of Executive Orders 12866 and 12988. This action is not a rule as defined by the Regulatory Flexibility Act, Public Law 96-354, and the Small Business Regulatory Fairness Enforcement Act, 5 U.S.C. 801 et seq., and thus is exempt from the provisions of those Acts. This rule contains no information collection or recordkeeping requirements under the Paperwork Reduction Act of 1995 (44 U.S.C. 3501 et seq.).

List of Subjects in 7 CFR Part 2

Authority delegations (Government agencies).

Accordingly, Title 7 of the Code of Federal Regulations is amended as set forth below:

PART 2—DELEGATIONS OF AUTHORITY BY THE SECRETARY OF AGRICULTURE AND GENERAL OFFICERS OF THE DEPARTMENT

1. The authority for Part 2 continues to read as follows:

Authority: 7 U.S.C. 6912(a)(1); 5 U.S.C. 301; Reorganization Plan No. 2 of 1953, 3 CFR 1949-1953 Comp., p. 1024.

Subpart C—Delegations of Authority to the Deputy Secretary, the Under Secretaries and Assistant Secretaries

2. Amend § 2.16 as follows:

a. Revise paragraphs (a)(1)(xxv), (a)(2)(i)(G), (a)(2)(x), (a)(3)(vi), (a)(3)(vii)(E), (a)(3)(ix), (a)(3)(x), (a)(3)(xv), and (a)(3)(xliv);

b. Remove and reserve paragraphs (a)(1)(xvii), (a)(1)(xx), (a)(1)(xxi), (a)(1)(xxii), (a)(1)(xxiv), (a)(2)(i)(A), and (a)(3)(xviii); and

c. Add new paragraphs (a)(1)(xxix), (a)(1)(xxx), (a)(1)(xxxi), (a)(1)(xxxii), (a)(1)(xxxiii), (a)(1)(xxxiv), (a)(1)(xxxv), (a)(2)(i)(L), (a)(3)(xlv), (a)(3)(xlvi), (a)(3)(xlvii), (a)(3)(xlviii), and (a)(4)(v), to read as follows:

§ 2.16 Under Secretary for Farm and Foreign Agricultural Services.

(a) * * *

(1) * * *

(xvii) [Reserved]

* * * * *

(xx)-(xxii) [Reserved]

* * * * *

(xxiv) [Reserved]

(xxv) Administer all programs of the Commodity Credit Corporation that provide assistance with respect to the production of agricultural commodities, including disaster assistance and the domestic marketing of such commodities, except as may otherwise be reserved by the Secretary of Agriculture, and similar programs (including commodity quality development programs) consigned by statute to the Secretary of Agriculture unless otherwise delegated.

* * * * *

(xxix) Administer the feedstock flexibility program for bioenergy producers under section 9010 of the Farm Security and Rural Investment Act of 2002 (7 U.S.C. 8110) and the biomass crop assistance program under section 9011 of that Act (7 U.S.C. 8111).

(xxx) Administer the Grassland Reserve Program under sections 1238N-1238Q of the Food Security Act of 1985 (16 U.S.C. 3838n-3838q) in cooperation with the Under Secretary for Natural Resources and Environment.

(xxxi) Administer the provisions of section 1240R of the Food Security Act of 1985 (16 U.S.C. 3839bb-5) regarding voluntary public access and habitat incentives.

(xxxii) Implement the authority in section 1241 of the Food Security Act of 1985 (16 U.S.C. 3841) to accept and use voluntary contributions of non-Federal funds in support of natural resources conservation programs under subtitle D of title XII of that Act with respect to authorities delegated to the Under Secretary for Farm and Foreign Agricultural Services.

(xxxiii) Coordinate Department policy for, and issue, receipts under section 2501A(e) of the Food, Agriculture, Conservation, and Trade Act of 1990 (7 U.S.C. 2279-1(e)).

(xxxiv) Administer the following provisions of the Food, Conservation, and Energy Act of 2008, Public Law 110-246:

(A) Section 1605 relating to quality incentive payments for covered oilseed producers.

(B) Section 1609 relating to the tracking of benefits.

(C) Section 1612 relating to the hard white wheat development program.

(D) Section 1613 relating to the durum wheat quality program.

(E) Section 1621 relating to direct reimbursement payments to geographically disadvantaged farmers or ranchers.

(F) Section 10404 relating to market loss assistance for asparagus producers.

(G) Sections 12033 and 15101 relating to supplemental agricultural disaster assistance.

(H) Section 14212 relating to the closure or relocation of county or field offices of the Farm Service Agency.

(I) Section 15353(a) relating to information reporting for Commodity Credit Corporation transactions.

(xxxv) Implement the information disclosure authorities of section 1619(b)(3)(A) of the Food, Conservation, and Energy Act of 2008 (7 U.S.C. 8791(b)(3)(A)).

(2) * * *

(i) * * *

(A) [Reserved]

* * * * *

(G) Section 310B (7 U.S.C. 1932), regarding various Rural Development programs;

* * * * *

(L) Section 375 (7 U.S.C. 2008j), relating to the National Sheep Industry Improvement Center.

* * * * *

(x) Administer loans to Indian tribes, tribal corporations, and purchasers of highly fractionated land (25 U.S.C. 488-492).

* * * * *

(3) * * *

(vi) Exercise the Department's functions with respect to the International Coffee Agreement or any such future agreement.

(vii) * * *

(E) Section 204(d) of the Andean Trade Preference Act (19 U.S.C. 3203(d));

* * * * *

(ix) Exercise the Department's responsibilities in connection with international negotiations of the Grains Trade Convention and in the administration of such Convention.

(x) Plan and carry out programs and activities under the foreign market promotion authority of: The Wheat Research and Promotion Act (7 U.S.C. 1292 note); the Cotton Research and Promotion Act (7 U.S.C. 2101-2118); the Potato Research and Promotion Act (7 U.S.C. 2611-2627); the Egg Research and Consumer Information Act of 1974 (7 U.S.C. 2701-2718); the Beef Research and Information Act, as amended (7 U.S.C. 2901-2911); the Wheat and Wheat Foods Research and Nutrition Education Act (7 U.S.C. 3401-3417); the Floral Research and Consumer Information Act of 1981 (7 U.S.C. 4301-4319); subtitle B of title I of the Dairy and Tobacco Adjustment Act of 1983 (7 U.S.C. 4501-4514); the Honey Research, Promotion, and Consumer Information Act of 1984, as amended (7 U.S.C. 4601-4613); the Pork Promotion, Research, and Consumer Information Act of 1985 (7 U.S.C. 4801-4819); the Watermelon Research and Promotion Act, as amended (7 U.S.C. 4901-4916); the Pecan Promotion and Research Act of 1990 (7 U.S.C. 6001-6013); the Mushroom Promotion, Research, and Consumer Information Act of 1990 (7 U.S.C. 6101-6112); the Lime Research, Promotion, and Consumer Information Act of 1990 (7 U.S.C. 6201-6212); the Soybean Promotion, Research, and Consumer Information Act of 1990 (7 U.S.C. 6301-6311); the Fluid Milk Promotion Act of 1990 (7 U.S.C. 6401-6417); the Fresh Cut Flowers and Fresh Cut Greens Promotion and Consumer Information Act (7 U.S.C. 6801-6814); the Sheep Promotion, Research, and Information Act of 1994 (7 U.S.C. 7101-7111); the Commodity Promotion, Research, and Information Act of 1996 (7 U.S.C. 7411-7425); the Canola and Rapeseed Research, Promotion, and Consumer Information Act (7 U.S.C. 7441-7452); the National Kiwifruit Research, Promotion, and Consumer Information Act (7 U.S.C. 7461-7473); and, the Popcorn Promotion, Research, and Consumer Information Act (7 U.S.C. 7481-7491). This authority includes determining the programs and activities to be undertaken and assuring that they are coordinated with the overall departmental programs to develop foreign markets for U.S. agricultural products.

* * * * *

(xv) Formulate policies and implement programs to promote the export of dairy products, as authorized under section 153 of the Food Security Act of 1985, as amended (15 U.S.C. 713a-14).

* * * * *

(xviii) [Reserved]

* * * * *

(xliv) Implement section 3107 of the Farm Security and Rural Investment Act of 2002 (7 U.S.C. 1736o-1).

(xlv) Implement section 3205 of the Food, Conservation, and Energy Act of 2008 (22 U.S.C. 7112 note) regarding the Consultative Group to Eliminate the Use of Child Labor and Forced Labor in Imported Agricultural Products, in consultation with the Under Secretary for Marketing and Regulatory Programs.

(xlvi) Implement section 3206 of the Food, Conservation, and Energy Act of 2008 (7 U.S.C. 1726c) regarding local and regional food aid procurement projects.

(xlvii) Administer the Borlaug International Agricultural Science and Technology Fellowship Program (7 U.S.C. 3319j).

(xlviii) Administer the grant program for agricultural biotechnology research and development for developing countries (7 U.S.C. 7631).

(4) * * *

(v) Conduct a study and issue a report on the efficacy and accuracy of the application of pack factors regarding the measurement of farm-stored production for purposes of providing policies or plans of insurance under the Federal Crop Insurance Act (7 U.S.C. 1501 et seq.).

* * * * *

3. Amend § 2.17 as follows:

a. Redesignate paragraph (a)(21)(ii)(H) as paragraph (a)(21)(ii)(M);

b. Redesignate and revise paragraph (a)(21)(ii)(I) as paragraph (a)(21)(ii)(N);

c. Revise paragraphs (a)(21)(ii)(D) and (a)(21)(xxiii);

d. Remove and reserve paragraphs (a)(20)(iv)(J), (a)(21)(ii)(B), (a)(24) and (a)(25); and

e. Add new paragraphs (a)(20)(xi), (a)(21)(ii)(H), (a)(21)(ii)(I), (a)(21)(ii)(J), (a)(21)(ii)(K), (a)(21)(ii)(L), (a)(21)(xxiv), (a)(21)(xxv), (a)(22)(vii), (a)(22)(viii), (a)(27), (a)(28), and (a)(29), to read as follows:

§ 2.17 Under Secretary for Rural Development.

(a) * * *

(20) * * *

(iv) * * *

(J) [Reserved]

* * * * *

(xi) In coordination with the Under Secretary for Farm and Foreign Agricultural Services, issue receipts under section 2501A(e) of the Food, Agriculture, Conservation, and Trade Act of 1990 (7 U.S.C. 2279-1(e)).

(21) * * *

(ii) * * *

(B) [Reserved]

* * * * *

(D) Section 310B (7 U.S.C. 1932), relating to various Rural Development programs, except for subsection (b) of that section.

* * * * *

(H) Section 379E (7 U.S.C. 2008s) relating to the Rural Microentrepreneur Assistance Program.

(I) Section 379F (7 U.S.C. 2000t) relating to the Expansion of Employment Opportunities for Individuals with Disabilities in Rural Areas Program.

(J) Section 379G (7 U.S.C. 2008u) relating to Health Care Services.

(K) Section 382A et seq. (7 U.S.C. 2009aa et seq.) relating to the Delta Regional Authority.

(L) Section 383A et seq. (7 U.S.C. 2009bb et seq.) relating to the Northern Great Plains Regional Authority.

* * * * *

(N) Section 385A et seq. (7 U.S.C. 2009dd et seq.) relating to the Rural Collaborative Investment Program.

* * * * *

(xxiii) Administer the renewable energy programs authorized in sections 9003, 9004, 9005, 9007, and 9009 of the Farm Security and Rural Investment Act of 2002 (7 U.S.C. 8103, 8104, 8105, 8107, and 8109).

(xxiv) Implement the information disclosure authorities of section 1619(b)(3)(A) of the Food, Conservation, and Energy Act of 2008 (7 U.S.C. 8791(b)(3)(A)).

(xxv) In coordination with the Under Secretary for Farm and Foreign Agricultural Services, issue receipts under section 2501A(e) of the Food, Agriculture, Conservation, and Trade Act of 1990 (7 U.S.C. 2279-1(e)).

(22) * * *

(vii) Implement the information disclosure authorities of section 1619(b)(3)(A) of the Food, Conservation, and Energy Act of 2008 (7 U.S.C. 8791(b)(3)(A)).

(viii) In coordination with the Under Secretary for Farm and Foreign Agricultural Services, issue receipts under section 2501A(e) of the Food, Agriculture, Conservation, and Trade Act of 1990 (7 U.S.C. 2279-1(e)).

* * * * *

(24) [Reserved]

(25) [Reserved]

* * * * *

(27) Exercise the authority in section 10101 of the Disaster Relief and Recovery Supplemental Appropriations Act, 2008, Public Law 110-329, div. B., regarding the Rural Development Disaster Assistance Fund.

(28) Prepare and submit the report required by section 6018(b) of the Food, Conservation, and Energy Act of 2008, Public Law 110-246.

(29) Implement section 14218 of the Food, Conservation, and Energy Act of 2008 (7 U.S.C. 6941a).

* * * * *

4. Amend § 2.18 to revise paragraphs (a)(1)(ii)(A) and (a)(1)(ii)(B), to read as follows:

§ 2.18 Under Secretary for Food Safety.

(a) * * *

(1) * * *

(ii) * * *

(A) Poultry Products Inspection Act, as amended (21 U.S.C. 451-470, 472);

(B) Federal Meat Inspection Act, as amended, and related legislation, excluding so much of section 18 as pertains to issuance of certificates of condition of live animals intended and offered for export (21 U.S.C. 601-613, 615-624, 641-645, 661, 671-680, 683, 691-692, 694-695);

* * * * *

5. Amend § 2.19 as follows:

a. Revise paragraphs (a)(1)(i)(A), (a)(1)(i)(B), (a)(1)(iii), (a)(1)(iv), and (a)(3)(v);

b. Remove and reserve paragraph (a)(1)(ii)(F); and

c. Add new paragraphs (a)(1)(i)(G), (a)(1)(i)(H), (a)(1)(i)(I), (a)(1)(i)(J), (a)(1)(i)(K), (a)(1)(i)(L), (a)(1)(i)(M), (a)(3)(ix), and (a)(3)(x), to read as follows:

§ 2.19 Under Secretary for Food, Nutrition, and Consumer Services.

(a) * * *

(1) * * *

(i) * * *

(A) The Food and Nutrition Act of 2008, as amended (7 U.S.C. 2011-2036), except for section 25, regarding assistance for community food projects.

(B) Richard B. Russell National School Lunch Act, as amended (42 U.S.C. 1751-1769i), except procurement of agricultural commodities and other foods under section 6 thereof.

* * * * *

(G) Section 4403 of the Farm Security and Rural Investment Act of 2002 (7 U.S.C. 3171 note).

(H) Section 4404 of the Farm Security and Rural Investment Act of 2002 (2 U.S.C. 1161).

(I) Section 4142 of the Food, Conservation, and Energy Act of 2008 (Pub. L. 110-246).

(J) Section 4301 of the Food, Conservation, and Energy Act of 2008 (42 U.S.C. 1758a).

(K) Section 4305 of the Food, Conservation, and Energy Act of 2008 (42 U.S.C. 1755a).

(L) Section 4307 of the Food, Conservation, and Energy Act of 2008 (Pub. L. 110-246).

(M) Section 4405 of the Food, Conservation, and Energy Act of 2008 (7 U.S.C. 7517).

(ii) * * *

(F) [Reserved]

* * * * *

(iii) Administer those functions relating to the distribution of supplemental nutrition assistance program benefits under section 412 of the Robert T. Stafford Disaster Relief and Emergency Assistance Act (42 U.S.C. 5179).

(iv) In connection with the functions assigned in paragraphs (a)(1)(i), (ii) and (iii) of this section, relating to the distribution and donation of agricultural commodities and products thereof and supplemental nutrition assistance program benefits to eligible recipients, authority to determine the requirements for such agricultural commodities and products thereof and supplemental nutrition assistance program benefits to be so distributed.

* * * * *

(3) * * *

(v) Develop food plans for use in establishing supplemental nutrition assistance benefit levels, and assess the nutritional impact of Federal food programs.

* * * * *

(ix) In conjunction with the Department of Health and Human Services, administer section 4403 of the Food, Conservation, and Energy Act of 2008 (7 U.S.C. 5311a).

(x) Enter into contracts, grants, and cooperative agreements in accordance with section 1472 of the National Agricultural Research, Extension, and Teaching Policy Act of 1977 (7 U.S.C. 3318).

* * * * *

6. Amend § 2.20 as follows:

a. Revise paragraphs (a)(3)(iv)(G), (a)(3)(xiii)(D), and (a)(3)(xiii)(N); and

b. Add new paragraphs (a)(2)(xli), (a)(2)(xlii), (a)(2)(xliii), (a)(2)(xliv), (a)(3)(xiii)(O), (a)(3)(xiii)(P), (a)(3)(xiii)(Q), (a)(3)(xiii)(R), (a)(3)(xx), (a)(3)(xxi), (a)(3)(xxii), and (a)(3)(xxiii), to read as follows:

§ 2.20 Under Secretary for Natural Resources and Environment.

(a) * * *

(2) * * *

(xli) Implement the information disclosure authorities of section 1619(b)(3)(A) of the Food, Conservation, and Energy Act of 2008 (7 U.S.C. 8791(b)(3)(A)).

(xlii) Administer a program for providing loans to eligible units of local government to finance the purchase of equipment to monitor, remove, dispose of, and replace infested trees located under their jurisdiction and within the borders of quarantined areas (16 U.S.C. 2104a).

(xliii) Conduct a competitive research and development program to encourage the use of forest biomass for energy (7 U.S.C. 8112).

(xliv) Administer the community wood energy program providing grants for community wood energy plans and energy systems (7 U.S.C. 8113).

(3) * * *

(iv) * * *

(G) The Emergency Conservation Program and the Emergency Watershed Protection Program under sections 401-405 of the Agricultural Credit Act of 1978, 16 U.S.C. 2201-2205, except for the provisions of sections 401 and 402, 16 U.S.C. 2201-2202, as administered by the Under Secretary for Farm and Foreign Agricultural Services.

* * * * *

(xiii) * * *

(D) The Conservation Security Program authorized by sections 1238-1238C (16 U.S.C. 3838-3838c) and the Conservation Stewardship Program authorized by sections 1238D-1238G (16 U.S.C. 3838d-3838g).

* * * * *

(N) The incentives for certain farmers and ranchers and Indian tribes and the protection of certain proprietary information related to natural resources conservation programs as provided by section 1244 of the Act (16 U.S.C. 3844), except for responsibilities assigned to the Under Secretary for Farm and Foreign Agricultural Services.

(O) The Agriculture Conservation Experienced Services Program authorized by section 1252 of the Act (16 U.S.C. 3851).

(P) The authority under sections 1261-1262 of the Act (16 U.S.C. 3861-3862) to establish and utilize State Technical Committees.

(Q) The Grassland Reserve Program under sections 1238N-1238Q of the Act (16 U.S.C. 3838n-3838q) in cooperation with the Under Secretary for Farm and Foreign Agricultural Services.

(R) The authority in section 1241 of the Act (16 U.S.C. 3841) to accept and use voluntary contributions of non-Federal funds in support of natural resources conservation programs under subtitle D of title XII of the Act with respect to authorities delegated to the Under Secretary for Natural Resources and Environment.

* * * * *

(xx) Administer the Healthy Forests Reserve Program authorized by sections 501-508, Title V of the Healthy Forests Restoration Act of 2003 (16 U.S.C. 6571-6578).

(xxi) Implement the information disclosure authorities of section 1619(b)(3)(A) of the Food, Conservation, and Energy Act of 2008 (7 U.S.C. 8791(b)(3)(A)).

(xxii) In coordination with the Under Secretary for Farm and Foreign Agricultural Services, issue receipts under section 2501A(e) of the Food, Agriculture, Conservation, and Trade Act of 1990 (7 U.S.C. 2279-1(e)).

(xxiii) Authorize employees of the Natural Resources Conservation Service to carry and use firearms for personal protection while conducting field work in remote locations in the performance of their official duties (7 U.S.C. 2274a).

* * * * *

7. Amend § 2.21 as follows:

a. Remove and reserve paragraphs (a)(1)(xlv), (a)(1)(xlvii), (a)(1)(lxxxviii), (a)(1)(xciv), (a)(1)(clvii), (a)(1)(clviii), (a)(1)(clix), (a)(1)(clxi), and (a)(1)(clxxvii);

b. Revise paragraphs (a)(1)(xx), (a)(1)(xliv), (a)(1)(cxxi), (a)(1)(cxli), (a)(1)(clii), (a)(1)(clvi), (a)(1)(clxxi), (a)(8)(xiv), and (a)(8)(xv); and

c. Add new paragraphs (a)(1)(clxxxiii), (a)(1)(clxxxiv), (a)(1)(clxxxv), (a)(1)(clxxxvi), (a)(1)(clxxxvii), (a)(1)(clxxxviii), (a)(1)(clxxxix), (a)(1)(cxc), (a)(1)(cxci), (a)(1)(cxcii), (a)(1)(cxciii), (a)(1)(cxciv), (a)(1)(cxcv), (a)(1)(cxcvi), (a)(1)(cxcvii), (a)(1)(cxcviii), (a)(1)(cxcix), (a)(1)(cc), (a)(1)(cci), (a)(1)(ccii), (a)(1)(cciii), (a)(1)(cciv), and (a)(8)(xvii); to read as follows:

§ 2.21 Under Secretary for Research, Education, and Economics.

(a) * * *

(1) * * *

(xx) Administer the Agriculture and Food Research Initiative for competitive grants for fundamental and applied research, extension, and education to address food and agricultural sciences; administer a program of making special grants for research, extension, or education activities (7 U.S.C. 450i(b), (c)).

* * * * *

(xliv) Promote and strengthen higher education in the food and agricultural sciences; administer grants to colleges and universities; maintain a national food and agricultural education information system; conduct programs regarding the evaluation of teaching programs and continuing education; administer the National Food and Agricultural Sciences Teaching, Extension, and Research Awards Program to recognize and promote excellence in teaching, extension, and research in the food and agricultural sciences; administer programs relating to secondary education and 2-year postsecondary education, including grants to public secondary schools, institutions of higher education that award an associate's degree, other institutions of higher education, and nonprofit organizations; and report to Congress on the distribution of funds to carry out such teaching programs (7 U.S.C. 3152).

(xlv) [Reserved]

* * * * *

(xlvii) [Reserved]

* * * * *

(lxxxviii) [Reserved]

* * * * *

(xciv) [Reserved]

* * * * *

(cxxi) Administer a Cooperative Agricultural Extension Program related to agriculture, uses of solar energy with respect to agriculture, home economics, and rural energy in the District of Columbia (D.C. Code 38-1202.09).

* * * * *

(cxli) Implement and administer the Community Food Projects Program, Innovative Programs for Addressing Common Community Problems, and the Healthy Urban Food Enterprise Center pursuant to the provisions of section 25 of the Food and Nutrition Act of 2008 (7 U.S.C. 2034).

* * * * *

(clii) Solicit and consider input and recommendations from persons who conduct or use agricultural research, extension, or education and, after consultation with appropriate subcabinet officials, establish priorities for agricultural research, extension, and education activities conducted or funded by the Department; promulgate regulations concerning implementation of a process for obtaining stakeholder input at 1862, 1890, and 1994 Institutions and Hispanic-serving agricultural colleges and universities; and ensure that federally supported and conducted agricultural research, extension, and education activities are accomplished in accord with identified management principles (7 U.S.C. 7612).

* * * * *

(clvi) Require a procedure to be established by each 1862, 1890, and 1994 Institution and Hispanic-serving agricultural college and university, for merit review of each agricultural research and extension activity funded and review of the activity in accordance with the procedure (7 U.S.C. 7613(e)).

(clvii)-(clix) [Reserved]

* * * * *

(clxi) [Reserved]

* * * * *

(clxxi) Take a census of agriculture in 1998 and every fifth year thereafter pursuant to the Census of Agriculture Act of 1997, Public Law 105-113 (7 U.S.C. 2204g); ensure that the census of agriculture documents the number, location, and economic contributions of socially disadvantaged farmers or ranchers in agricultural production (7 U.S.C. 2279(h)).

* * * * *

(clxxvii) [Reserved]

* * * * *

(clxxxiii) Administer grants to assist the land-grant university in the District of Columbia to acquire, alter, or repair facilities or relevant equipment necessary for conducting agricultural research (7 U.S.C. 3222b-1).

(clxxxiv) Administer grants to assist the land-grant institutions in insular areas to acquire, alter, or repair facilities or relevant equipment necessary for conducting agricultural research (7 U.S.C. 3222b-2).

(clxxxv) Enter into agreements necessary to administer an Hispanic-Serving Agricultural Colleges and Universities Fund; enter into agreements necessary to administer a program of making annual payments to Hispanic-serving agricultural colleges and universities; administer an institutional capacity-building grants program for Hispanic-serving agricultural colleges and universities; administer a competitive grants program to fund fundamental and applied research at Hispanic-serving agricultural colleges and universities (7 U.S.C. 3243).

(clxxxvi) Administer the New Era Rural Technology Program to make grants for technology development, applied research, and training to aid in the development of an agriculture-based renewable energy workforce (7 U.S.C. 3319e).

(clxxxvii) Administer a competitive grants program to assist NLGCA Institutions in maintaining and expanding capacity to conduct education, research, and outreach activities relating to agriculture, renewable resources, and other similar disciplines (7 U.S.C. 3319i).

(clxxxviii) Administer the Agricultural Bioenergy Feedstock and Energy Efficiency Research and Extension Initiative to enhance the production of biomass energy crops and the energy efficiency of agricultural operations (7 U.S.C. 5925e).

(clxxxix) Administer a competitive research and extension grants program to improve the farm management knowledge and skills of agricultural producers and establish and maintain a national, publicly available farm financial management database to support improved farm management (7 U.S.C. 5925f).

(cxc) Administer the Specialty Crop Research Initiative (7 U.S.C. 7632).

(cxci) Exchange, sell, or otherwise dispose of animals, animal products, plants, and plant products, and use the sale or other proceeds to acquire such items or to offset costs related to the maintenance, care, or feeding of such items (7 U.S.C. 2241a).

(cxcii) Establish and administer a pilot program at the Beltsville Agricultural Research Center and National Agricultural Library to lease nonexcess property (7 U.S.C. 3125a note).

(cxciii) Lease land at the Grazinglands Research Laboratory at El Reno, Oklahoma, pursuant to section 7503 of the Food, Conservation, and Energy Act of 2008 (Pub. L. 110-246).

(cxciv) Administer a competitive research and education grants program relating to antibiotics and antibiotic-resistant bacteria (7 U.S.C. 3202).

(cxcv) Administer a competitive grants program to establish and maintain a Farm and Ranch Stress Assistance Network (7 U.S.C. 5936).

(cxcvi) Administer a competitive grants program relating to seed distribution (7 U.S.C. 415-1).

(cxcvii) Administer a natural products research program (7 U.S.C. 5937).

(cxcviii) Administer a Sun Grants Program (7 U.S.C. 8114).

(cxcix) Administer a competitive grants program relating to agricultural and rural transportation research and education (7 U.S.C. 5938).

(cc) Administer a program of providing competitive grants to Hispanic-serving institutions for the purpose of establishing an undergraduate scholarship program to assist in the recruitment, retention, and training of Hispanics and other under-represented groups in forestry and related fields (16 U.S.C. 1649a).

(cci) Administer a Biomass Research and Development Program (7 U.S.C. 8108) in consultation with other mission areas of the Department as appropriate.

(ccii) Administer a competitive grants program to encourage basic and applied research and the development of qualified agricultural countermeasures (7 U.S.C. 8921).

(cciii) Administer a competitive grants program to promote the development of teaching programs in agriculture, veterinary medicine, and disciplines closely allied to the food and agriculture system to increase the number of trained individuals with an expertise in agricultural biosecurity (7 U.S.C. 8922).

(cciv) Administer a program of providing grants to Alaska Native serving institutions and Native Hawaiian serving institutions for the purpose of promoting and strengthening the ability of those institutions to carry out education, applied research, and related community development programs (7 U.S.C. 3156).

* * * * *

(8) * * *

(xiv) Conduct surveys and analysis and publish reports relating to organic production, handling, distribution, retail, and trend studies (including consumer purchasing patterns); develop surveys and report statistical analysis on organically produced agricultural products (7 U.S.C. 5925c).

(xv) Assist the Under Secretary for Marketing and Regulatory Programs with respect to Dairy Product Mandatory Reporting (7 U.S.C. 1637-1637b).

* * * * *

(xvii) Ensure that studies carried out by the Economic Research Service document the number, location, and economic contributions of socially disadvantaged farmers or ranchers in agricultural production (7 U.S.C. 2279(h)).

8. Amend § 2.22 to add new paragraphs (a)(1)(viii)(HHH), (a)(1)(viii)(III), (a)(1)(viii)(JJJ), (a)(1)(viii)(KKK), (a)(1)(viii)(LLL), (a)(1)(viii)(MMM), (a)(1)(viii)(NNN), (a)(1)(viii)(OOO), (a)(1)(viii)(PPP), (a)(1)(xi), (a)(1)(xii), (a)(2)(xxxvi), (a)(2)(xxxvii), (a)(2)(xxxviii), (a)(2)(xxxix), (a)(2)(xl), (a)(3)(vi), and (b)(2)(iv), to read as follows:

§ 2.22 Under Secretary for Marketing and Regulatory Programs.

(a) * * *

(1) * * *

(viii) * * *

(HHH) Section 7407 of the Farm Security and Rural Investment Act of 2002 (7 U.S.C. 5925c), with respect to the collection and distribution of comprehensive reporting of prices relating to organically produced agricultural products.

(III) Livestock Mandatory Reporting (7 U.S.C. 1635-1636i).

(JJJ) Section 375 of the Consolidated Farm and Rural Development Act (7 U.S.C. 2008j).

(KKK) Section 101 of the Specialty Crops Competitiveness Act of 2004 (7 U.S.C. 1621 note).

(LLL) Section 1502 of the Food, Conservation, and Energy Act of 2008 (7 U.S.C. 8772).

(MMM) Section 1509 of the Food, Conservation, and Energy Act of 2008 (Pub. L. 110-246).

(NNN) Section 10105 of the Food, Conservation, and Energy Act of 2008 (7 U.S.C. 7655a).

(OOO) Section 10107 of the Food, Conservation, and Energy Act of 2008 (7 U.S.C. 1622b).

(PPP) Section 10403 of the Food, Conservation, and Energy Act of 2008 (7 U.S.C. 1622c).

* * * * *

(xi) Administer a program for Dairy Product Mandatory Reporting (7 U.S.C. 1637-1637b), with the assistance of the Under Secretary for Research, Education, and Economics.

(xii) Assist the Under Secretary for Farm and Foreign Agricultural Services with implementing section 3205 of the Food, Conservation, and Energy Act of 2008 (22 U.S.C. 7112 note) regarding the Consultative Group to Eliminate the Use of Child Labor and Forced Labor in Imported Agricultural Products.

(2) * * *

(xxxvi) Implement the information disclosure authorities of section 1619(b)(3)(A) of the Food, Conservation, and Energy Act of 2008 (7 U.S.C. 8791(b)(3)(A)).

(xxxvii) Section 7524 of the Food, Conservation, and Energy Act of 2008 (21 U.S.C. 113a note), except for the suspension, revocation, or other impairment of a permit issued under that section.

(xxxviii) Section 10202 of the Food, Conservation, and Energy Act of 2008 (7 U.S.C. 7761).

(xxxix) Section 10204 of the Food, Conservation, and Energy Act of 2008 (7 U.S.C. 7701 note).

(xl) Section 14216 of the Food, Conservation, and Energy Act of 2008 (Pub. L. 110-246).

(3) * * *

(vi) Administer responsibilities and functions assigned to the Secretary in section 11006 of the Food, Conservation, and Energy Act of 2008 (7 U.S.C. 228 note), with respect to the Packers and Stockyards Act, 1921.

* * * * *

(b) * * *

(2) * * *

(iv) The suspension, revocation, or other impairment of a permit issued under section 7524 of the Food, Conservation, and Energy Act of 2008 (21 U.S.C. 113a note).

9. Amend § 2.24 to add new paragraphs (a)(7)(xix) and (a)(7)(xx), to read as follows:

§ 2.24 Assistant Secretary for Administration.

(a) * * *

(7) * * *

(xix) Make available to organizations excess or surplus computers or other technical equipment of the Department for the purpose of distribution to cities, towns, or local government entities in rural areas (7 U.S.C. 2206b).

(xx) In coordination with the Chief Financial Officer, implement the debarment authorities in section 14211 of the Food, Conservation, and Energy Act of 2008 (7 U.S.C. 2209j), in connection with procurement activities.

* * * * *

Subpart D—Delegations of Authority to Other General Officers and Agency Heads

10. Amend § 2.28 to add new paragraphs (b)(18) and (b)(19), to read as follows:

* * * * *

§ 2.28 Chief Financial Officer.

* * * * *

(b) * * *

(18) Administer the debarment authorities in section 14211 of the Food, Conservation, and Energy Act of 2008 (7 U.S.C. 2209j), in coordination with the Assistant Secretary for Administration.

(19) Prepare and submit to Congress reports on conferences sponsored or held by the Department or attended by employees of the Department (7 U.S.C. 2255b).

11. Amend § 2.29 as follows:

a. Revise paragraphs (a)(11)(vii) and (a)(11)(viii); and

b. Add a new paragraph (a)(11)(ix), to read as follows:

§ 2.29 Chief Economist.

(a) * * *

(11) * * *

(vii) Administer a competitive biodiesel fuel education grants program (7 U.S.C. 8106).

(viii) Implement a memorandum of understanding with the Secretary of Energy regarding cooperation in the application of hydrogen and fuel cell technology programs for rural communities and agricultural producers.

(ix) Conduct a study on biofuels infrastructure under section 9002 of the Food, Conservation, and Energy Act of 2008 (Pub. L. 110-246).

12. Revise § 2.32 to read as follows:

§ 2.32 Director, Office of Homeland Security.

(a) The following delegations of authority are made by the Secretary to the Director, Office of Homeland Security:

(1) Administer the Department Emergency Preparedness Program. This includes the:

(i) Coordination of the delegations and assignments made to the Department under the Defense Production Act of 1950, 50 U.S.C. App. 2061, et seq., and the Robert T. Stafford Disaster Relief and Emergency Assistance Act, 42 U.S.C. 5121, et seq., and by Executive Orders 12148, “Federal Emergency Management,” 12919, “National Defense Industrial Resources Preparedness,” 12656, “Assignment of Emergency Preparedness Responsibilities,” or any successor to these Executive Orders, to ensure that the Department has sufficient capabilities to respond to any occurrence, including natural disaster, military attack, technological emergency, or any other emergency.

(ii) Activation of the USDA incident management system in accordance with the National Response Framework and the National Incident Management System in the event of a major incident.

(iii) Establishment and oversight of a Department-wide Incident Command System training program.

(iv) Development and promulgation of policies for the Department regarding emergency preparedness and national security, including matters relating to anti-terrorism and agriculture-related emergency preparedness planning both national and international, and guidance to USDA State and County Emergency Boards.

(v) Representation and liaison for the Department in contacts with other Federal entities and organizations, including the Department of Homeland Security, Federal Emergency Management Agency, National Security Council, Office of Management and Budget, and Department of Defense concerning matters of a national security, natural disaster, other emergencies, and agriculture-related international civil emergency planning and related activities, and as the primary USDA representative for anti-terrorism activities.

(vi) Oversight and coordination of the Department's Emergency Support Functions as outlined in the National Response Framework.

(vii) Development and submission of a coordinated budget request for homeland security.

(viii) Provide for the personal security for the Secretary and the Deputy Secretary.

(2) Serve as the USDA focal point to identify, receive, disseminate and store USDA intelligence requirements and convey information to the intelligence community.

(3) Serve as the primary point of contact for GAO and OIG audits of USDA homeland security activities.

(4) Coordinate interaction between Department agencies and private sector businesses and industries in emergency planning and public education under Department authorities delegated or assigned under the National Response Framework, Defense Production Act of 1950, 50 U.S.C. App. 2061, et seq., and Robert T. Stafford Disaster Relief and Emergency Assistance Act, 42 U.S.C. 5121, et seq.

(5) Serve as the document classification authority for the Department.

(6) Provide staff support to the USDA Homeland Security Council.

(7) Establish and administer a communication center within the Department to collect and disseminate information and prepare for an agricultural disease emergency, agroterrorist act, or other threat to agricultural biosecurity, and coordinate such activities among agencies and offices within the Department (7 U.S.C. 8912).

(8) Administer a competitive grant program to support the development and expansion of advanced training programs in agricultural biosecurity planning and response for food science professionals and veterinarians; administer a competitive grant and low-interest loan assistance program to assist States in assessing agricultural disease response capability (7 U.S.C. 8913).

(b) [Reserved]

Subpart F—Delegations of Authority by the Under Secretary for Farm and Foreign Agricultural Services

13. Amend § 2.42 as follows:

a. Revise paragraphs (a)(28)(vii), (a)(37), and (a)(45);

b. Remove and reserve paragraphs (a)(19), (a)(24), (a)(25), (a)(26), (a)(28)(i), and (a)(44); and

c. Add new paragraphs (a)(28)(xii), (a)(51), (a)(52), (a)(53), (a)(54), (a)(55), (a)(56), and (a)(57), to read as follows:

§ 2.42 Administrator, Farm Service Agency.

(a) * * *

(19) [Reserved]

* * * * *

(24)-(26) [Reserved]

* * * * *

(28) * * *

(i) [Reserved]

* * * * *

(vii) Section 310B (7 U.S.C. 1932), regarding various Rural Development programs;

* * * * *

(xii) Section 375 (7 U.S.C. 2008j), relating to the National Sheep Industry Improvement Center.

* * * * *

(37) Administer loans to Indian tribes, tribal corporations, and purchasers of highly fractionated land (25 U.S.C. 488-492).

* * * * *

(44) [Reserved]

(45) Administer all programs of the Commodity Credit Corporation that provide assistance with respect to the production of agricultural commodities, including disaster assistance and the domestic marketing of such commodities, except as may otherwise be reserved by the Under Secretary for Farm and Foreign Agricultural Services, and similar programs (including commodity quality development programs) consigned by statute to the Secretary of Agriculture unless otherwise delegated.

* * * * *

(51) Administer the feedstock flexibility program for bioenergy producers under section 9010 of the Farm Security and Rural Investment Act of 2002 (7 U.S.C. 8110) and the biomass crop assistance program under section 9011 of that Act (7 U.S.C. 8111).

(52) Administer those portions of the Grassland Reserve Program under sections 1238N-1238Q of the Food Security Act of 1985 (16 U.S.C. 3838n-3838q) that are or become the responsibility of the Under Secretary for Farm and Foreign Agricultural Services.

(53) Administer the provisions of section 1240R of the Food Security Act of 1985 (16 U.S.C. 3839bb-5) regarding voluntary public access and habitat incentives.

(54) Implement the authority in section 1241 of the Food Security Act of 1985 (16 U.S.C. 3841) to accept and use voluntary contributions of non-Federal funds in support of natural resources conservation programs under subtitle D of title XII of that Act with respect to authorities delegated to the Administrator, Farm Service Agency.

(55) Coordinate Department policy for, and issue, receipts under section 2501A(e) of the Food, Agriculture, Conservation, and Trade Act of 1990 (7 U.S.C. 2279-1(e)).

(56) Administer the following provisions of the Food, Conservation, and Energy Act of 2008, Public Law 110-246:

(i) Section 1605 relating to quality incentive payments for covered oilseed producers.

(ii) Section 1609 relating to the tracking of benefits.

(iii) Section 1612 relating to the hard white wheat development program.

(iv) Section 1613 relating to the durum wheat quality program.

(v) Section 1621 relating to direct reimbursement payments to geographically disadvantaged farmers or ranchers.

(vi) Section 10404 relating to market loss assistance for asparagus producers.

(vii) Sections 12033 and 15101 relating to supplemental agricultural disaster assistance.

(viii) Section 14212 relating to the closure or relocation of county or field offices of the Farm Service Agency.

(ix) Section 15353(a) relating to information reporting for Commodity Credit Corporation transactions.

(57) Implement the information disclosure authorities of section 1619(b)(3)(A) of the Food, Conservation, and Energy Act of 2008 (7 U.S.C. 8791(b)(3)(A)).

* * * * *

14. Amend § 2.43 as follows:

a. Revise paragraphs (a)(5), (a)(8), (a)(18), (a)(24), and (a)(44);

b. Remove and reserve paragraph (a)(21); and

c. Add new paragraphs (a)(46), (a)(47), (a)(48), and (a)(49), to read as follows:

§ 2.43 Administrator, Foreign Agricultural Service.

(a) * * *

(5) Exercise the Department's functions with respect to the International Coffee Agreement or any such future agreement.

* * * * *

(8) Exercise the Department's responsibilities in connection with international negotiations of the Grains Trade Convention and in the administration of such Convention.

* * * * *

(18) Formulate policies and implement programs to promote the export of dairy products, as authorized under section 153 of the Food Security Act of 1985, as amended (15 U.S.C. 713a-14).

* * * * *

(21) [Reserved]

* * * * *

(24) Plan and carry out programs and activities under the foreign market promotion authority of: The Wheat Research and Promotion Act (7 U.S.C. 1292 note); the Cotton Research and Promotion Act (7 U.S.C. 2101-2118); the Potato Research and Promotion Act (7 U.S.C. 2611-2627); the Egg Research and Consumer Information Act of 1974 (7 U.S.C. 2701-2718); the Beef Research and Information Act, as amended (7 U.S.C. 2901-2911); the Wheat and Wheat Foods Research and Nutrition Education Act (7 U.S.C. 3401-3417); the Floral Research and Consumer Information Act of 1981 (7 U.S.C. 4301-4319); subtitle B of title I of the Dairy and Tobacco Adjustment Act of 1983 (7 U.S.C. 4501-4514); the Honey Research, Promotion, and Consumer Information Act of 1984, as amended (7 U.S.C. 4601-4613); the Pork Promotion, Research, and Consumer Information Act of 1985 (7 U.S.C. 4801-4819); the Watermelon Research and Promotion Act, as amended (7 U.S.C. 4901-4916); the Pecan Promotion and Research Act of 1990 (7 U.S.C. 6001-6013); the Mushroom Promotion, Research, and Consumer Information Act of 1990 (7 U.S.C. 6101-6112); the Lime Research, Promotion, and Consumer Information Act of 1990 (7 U.S.C. 6201-6212); the Soybean Promotion, Research, and Consumer Information Act of 1990 (7 U.S.C. 6301-6311); the Fluid Milk Promotion Act of 1990 (7 U.S.C. 6401-6417); the Fresh Cut Flowers and Fresh Cut Greens Promotion and Consumer Information Act (7 U.S.C. 6801-6814); the Sheep Promotion, Research, and Information Act of 1994 (7 U.S.C. 7101-7111); the Commodity Promotion, Research, and Information Act of 1996 (7 U.S.C. 7411-7425); the Canola and Rapeseed Research, Promotion, and Consumer Information Act (7 U.S.C. 7441-7452); the National Kiwifruit Research, Promotion, and Consumer Information Act (7 U.S.C. 7461-7473); and, the Popcorn Promotion, Research, and Consumer Information Act (7 U.S.C. 7481-7491). This authority includes determining the programs and activities to be undertaken and assuring that they are coordinated with the overall departmental programs to develop foreign markets for U.S. agricultural products.

* * * * *

(44) Implement section 3107 of the Farm Security and Rural Investment Act of 2002 (7 U.S.C. 1736o-1).

* * * * *

(46) Implement section 3205 of the Food, Conservation, and Energy Act of 2008 (22 U.S.C. 7112 note) regarding the Consultative Group to Eliminate the Use of Child Labor and Forced Labor in Imported Agricultural Products, in consultation with the Administrator of the Agricultural Marketing Service.

(47) Implement section 3206 of the Food, Conservation, and Energy Act of 2008 (7 U.S.C. 1726c) regarding local and regional food aid procurement projects.

(48) Administer the Borlaug International Agricultural Science and Technology Fellowship Program (7 U.S.C. 3319j).

(49) Administer the grant program for agricultural biotechnology research and development for developing countries (7 U.S.C. 7631).

* * * * *

15. Amend § 2.44 to add a new paragraph (a)(4), to read as follows:

§ 2.44 Administrator, Risk Management Agency and Manager, Federal Crop Insurance Corporation.

(a) * * *

(4) Conduct a study and issue a report on the efficacy and accuracy of the application of pack factors regarding the measurement of farm-stored production for purposes of providing policies or plans of insurance under the Federal Crop Insurance Act (7 U.S.C. 1501 et seq.).

* * * * *

Subpart G—Delegations of Authority by the Under Secretary for Rural Development

16. Amend § 2.47 as follows:

a. Remove and reserve paragraph (a)(4)(xi); and

b. Add a new paragraph (a)(16), to read as follows:

§ 2.47 Administrator, Rural Utilities Service.

(a) * * *

(4) * * *

(xi) [Reserved]

* * * * *

(16) In coordination with the Administrator, Farm Service Agency, issue receipts under section 2501A(e) of the Food, Agriculture, Conservation, and Trade Act of 1990 (7 U.S.C. 2279-1(e))

* * * * *

17. Amend § 2.48 as follows:

a. Redesignate paragraph (a)(2)(viii) as (a)(2)(xiii);

b. Revise paragraphs (a)(2)(iv) and (a)(30);

c. Remove and reserve paragraph (a)(2)(ii); and

d. Add new paragraphs (a)(2)(viii), (a)(2)(ix), (a)(2)(x), (a)(2)(xi), (a)(2)(xii), (a)(2)(xiv), (a)(31), and (a)(32), to read as follows:

§ 2.48 Administrator, Rural Business-Cooperative Service.

(a) * * *

(2) * * *

(ii) [Reserved]

* * * * *

(iv) Section 310B (7 U.S.C. 1932), relating to various Rural Development programs, except for subsection (b) of that section.

* * * * *

(viii) Section 379E (7 U.S.C. 2008s) relating to the Rural Microentrepreneur Assistance Program.

(ix) Section 379F (7 U.S.C. 2000t) relating to the Expansion of Employment Opportunities for Individuals with Disabilities in Rural Areas Program.

(x) Section 379G (7 U.S.C. 2008u) relating to Health Care Services.

(xi) Section 382A et seq. (7 U.S.C. 2009aa et seq.) relating to the Delta Regional Authority.

(xii) Section 383A et seq. (7 U.S.C. 2009bb et seq.) relating to the Northern Great Plains Regional Authority.

* * * * *

(xiv) Section 385A et seq. (7 U.S.C. 2009dd et seq.) relating to the Rural Collaborative Investment Program.

* * * * *

(30) Administer the renewable energy programs authorized in sections 9003, 9004, 9005, 9007, and 9009 of the Farm Security and Rural Investment Act of 2002 (7 U.S.C. 8103, 8104, 8105, 8107, and 8109).

(31) Implement the information disclosure authorities of section 1619(b)(3)(A) of the Food, Conservation, and Energy Act of 2008 (7 U.S.C. 8791(b)(3)(A)).

(32) In coordination with the Administrator, Farm Service Agency, issue receipts under section 2501A(e) of the Food, Agriculture, Conservation, and Trade Act of 1990 (7 U.S.C. 2279-1(e)).

* * * * *

18. Amend § 2.49 to add new paragraphs (a)(12) and (a)(13), to read as follows:

§ 2.49 Administrator, Rural Housing Service.

(a) * * *

(12) Implement the information disclosure authorities of section 1619(b)(3)(A) of the Food, Conservation, and Energy Act of 2008 (7 U.S.C. 8791(b)(3)(A)).

(13) In coordination with the Administrator, Farm Service Agency, issue receipts under section 2501A(e) of the Food, Agriculture, Conservation, and Trade Act of 1990 (7 U.S.C. 2279-1(e)).

* * * * *

Subpart H—Delegations of Authority by the Under Secretary for Food Safety

19. Amend § 2.53 to revise paragraphs (a)(2)(i) and (a)(2)(ii), to read as follows:

§ 2.53 Administrator, Food Safety and Inspection Service.

(a) * * *

(2) * * *

(i) Poultry Products Inspection Act, as amended (21 U.S.C. 451-470, 472);

(ii) Federal Meat Inspection Act, as amended, and related legislation, excluding so much of section 18 as pertains to issuance of certificates of condition of live animals intended and offered for export (21 U.S.C. 601-613, 615-624, 641-645, 661, 671-680, 683, 691-692, 694-695);

* * * * *

Subpart I—Delegations of Authority by the Under Secretary for Food, Nutrition, and Consumer Services

20. Amend § 2.57 as follows:

a. Revise paragraphs (a)(1)(i), (a)(1)(ii), (a)(3), (a)(4), and (a)(6);

b. Remove and reserve paragraph (a)(2)(vi); and

c. Add new paragraphs (a)(1)(vii), (a)(1)(viii), (a)(1)(ix), (a)(1)(x), (a)(1)(xi), (a)(1)(xii), and (a)(1)(xiii), to read as follows:

§ 2.57 Administrator, Food and Nutrition Service.

(a) * * *

(1) * * *

(i) The Food and Nutrition Act of 2008, as amended (7 U.S.C. 2011-2036), except for section 25, regarding assistance for community food projects.

(ii) Richard B. Russell National School Lunch Act, as amended (42 U.S.C. 1751-1769i), except procurement of agricultural commodities and other foods under section 6 thereof.

* * * * *

(vii) Section 4403 of the Farm Security and Rural Investment Act of 2002 (7 U.S.C. 3171 note).

(viii) Section 4404 of the Farm Security and Rural Investment Act of 2002 (2 U.S.C. 1161).

(ix) Section 4142 of the Food, Conservation, and Energy Act of 2008 (Pub. L. 110-246).

(x) Section 4301 of the Food, Conservation, and Energy Act of 2008 (42 U.S.C. 1758a).

(xi) Section 4305 of the Food, Conservation, and Energy Act of 2008 (42 U.S.C. 1755a).

(xii) Section 4307 of the Food, Conservation, and Energy Act of 2008 (Pub. L. 110-246). (xiii) Section 4405 of the Food, Conservation, and Energy Act of 2008 (7 U.S.C. 7517).

(2) * * *

(vi) [Reserved]

* * * * *

(3) Administer those functions relating to the distribution of supplemental nutrition assistance program benefits under section 412 of the Robert T. Stafford Disaster Relief and Emergency Assistance Act (42 U.S.C. 5179).

(4) In connection with the functions assigned in paragraphs (a)(1), (a)(2), and (a)(3) of this section, relating to the distribution and donation of agricultural commodities and products thereof and supplemental nutrition assistance program benefits to eligible recipients, authority to determine the requirements for such agricultural commodities and products thereof and supplemental nutrition assistance program benefits to be so distributed.

* * * * *

(6) Authorize defense emergency supplemental nutrition assistance program benefits.

* * * * *

Subpart J—Delegations of Authority by the Under Secretary for Natural Resources and Environment

21. Amend § 2.60 by adding new paragraphs (a)(50), (a)(51), (a)(52), and (a)(53), to read as follows:

§ 2.60 Chief, Forest Service.

(a) * * *

(50) Implement the information disclosure authorities of section 1619(b)(3)(A) of the Food, Conservation, and Energy Act of 2008 (7 U.S.C. 8791(b)(3)(A)).

(51) Administer a program, through the Deputy Chief of State and Private Forestry, for providing loans to eligible units of local government to finance the purchase of equipment to monitor, remove, dispose of, and replace infested trees located under their jurisdiction and within the borders of quarantined areas (16 U.S.C. 2104a).

(52) Conduct a competitive research and development program to encourage the use of forest biomass for energy (7 U.S.C. 8112).

(53) Administer the community wood energy program providing grants for community wood energy plans and energy systems (7 U.S.C. 8113).

* * * * *

22. Amend § 2.61 as follows:

a. Revise paragraphs (a)(4)(vii), (a)(13)(iv), and (a)(13)(xiv); and

b. Add new paragraphs (a)(13)(xv), (a)(13)(xvi), (a)(13)(xvii), (a)(13)(xviii), (a)(19), (a)(26), (a)(27), and (a)(28), to read as follows:

§ 2.61 Chief, Natural Resources Conservation Service.

(a) * * *

(4) * * *

(vii) The Emergency Conservation Program and the Emergency Watershed Protection Program under sections 401-405 of the Agricultural Credit Act of 1978, 16 U.S.C. 2201-2205, except for the provisions of sections 401 and 402, 16 U.S.C. 2201-2202, as administered by the Farm Service Agency.

* * * * *

(13) * * *

(iv) The Conservation Security Program authorized by sections 1238-1238C (16 U.S.C. 3838-3838c) and the Conservation Stewardship Program authorized by sections 1238D-1238G (16 U.S.C. 3838d-3838g).

* * * * *

(xiv) The incentives for certain farmers and ranchers and Indian tribes and the protection of certain proprietary information related to natural resources conservation programs as provided by section 1244 of the Act (16 U.S.C. 3844), except for responsibilities assigned to the Administrator, Farm Service Agency.

(xv) The Agriculture Conservation Experienced Services Program authorized by section 1252 of the Act (16 U.S.C. 3851).

(xvi) The authority under sections 1261-1262 of the Act (16 U.S.C. 3861-3862) to establish and utilize State Technical Committees.

(xvii) Those portions of the Grassland Reserve Program under sections 1238N-1238Q of the Act (16 U.S.C. 3838n-3838q) that are or become the responsibility of the Under Secretary for Natural Resources and Environment.

(xviii) The authority in section 1241 of the Act (16 U.S.C. 3841) to accept and use voluntary contributions of non-Federal funds in support of natural resources conservation programs under subtitle D of title XII of the Act with respect to authorities delegated to the Chief, Natural Resources Conservation Service.

* * * * *

(19) Administer the Healthy Forests Reserve Program authorized by sections 501-508, Title V of the Healthy Forests Restoration Act of 2003 (16 U.S.C. 6571-6578).

* * * * *

(26) Implement the information disclosure authorities of section 1619(b)(3)(A) of the Food, Conservation, and Energy Act of 2008 (7 U.S.C. 8791(b)(3)(A)).

(27) In coordination with the Administrator, Farm Service Agency, issue receipts under section 2501A(e) of the Food, Agriculture, Conservation, and Trade Act of 1990 (7 U.S.C. 2279-1(e)).

(28) Authorize employees of the Natural Resources Conservation Service to carry and use firearms for personal protection while conducting field work in remote locations in the performance of their official duties (7 U.S.C. 2274a).

* * * * *

Subpart K—Delegations of Authority by the Under Secretary for Research, Education, and Economics

23. Amend § 2.65 as follows:

a. Remove and reserve paragraph (a)(46);

b. Revise paragraph (a)(12); and

c. Add new paragraphs (a)(108), (a)(109), (a)(110), (a)(111), and (a)(112), to read as follows:

§ 2.65 Administrator, Agricultural Research Service.

(a) * * *

(12) Conduct research under the IR-4 program (7 U.S.C. 450i(e)).

* * * * *

(46) [Reserved]

* * * * *

(108) Exchange, sell, or otherwise dispose of animals, animal products, plants, and plant products, and use the sale or other proceeds to acquire such items or to offset costs related to the maintenance, care, or feeding of such items (7 U.S.C. 2241a).

(109) Establish and administer a pilot program at the Beltsville Agricultural Research Center and National Agricultural Library to lease nonexcess property (7 U.S.C. 3125a note).

(110) Lease land at the Grazinglands Research Laboratory at El Reno, Oklahoma, pursuant to section 7503 of the Food, Conservation, and Energy Act of 2008 (Pub. L. 110-246).

(111) Administer a natural products research program (7 U.S.C. 5937).

(112) Provide staff support to the Under Secretary for Research, Education, and Economics related to the National Agricultural Research, Extension, Education, and Economics Advisory Board (7 U.S.C. 3123).

* * * * *

24. Amend § 2.66 as follows:

a. Remove and reserve paragraphs (a)(14), (a)(15), (a)(38), (a)(46), (a)(111), (a)(124), (a)(125), (a)(126), and (a)(127);

b. Revise paragraphs (a)(7), (a)(8), (a)(13), (a)(62), (a)(102), (a)(120), and (a)(123); and

c. Add new paragraphs (a)(142), (a)(143), (a)(144), (a)(145), (a)(146), (a)(147), (a)(148), (a)(149), (a)(150), (a)(151), (a)(152), (a)(153), (a)(154), (a)(155), (a)(156), (a)(157), (a)(158), and (a)(159); to read as follows:

§ 2.66 Administrator, Cooperative State Research, Education, and Extension Service.

(a) * * *

(7) Administer the Agriculture and Food Research Initiative for competitive grants for fundamental and applied research, extension, and education to address food and agricultural sciences (7 U.S.C. 450i(b)).

(8) Administer a program of making special grants for research, extension, or education activities (7 U.S.C. 450i(c)).

* * * * *

(13) Promote and strengthen higher education in the food and agricultural sciences; administer grants to colleges and universities; maintain a national food and agricultural education information system; conduct programs regarding the evaluation of teaching programs and continuing education; administer the National Food and Agricultural Sciences Teaching, Extension, and Research Awards Program to recognize and promote excellence in teaching, extension, and research in the food and agricultural sciences; administer programs relating to secondary education and 2-year postsecondary education, including grants to public secondary schools, institutions of higher education that award an associate's degree, other institutions of higher education, and nonprofit organizations; and report to Congress on the distribution of funds to carry out such teaching programs (7 U.S.C. 3152).

(14)-(15) [Reserved]

* * * * *

(38) [Reserved]

* * * * *

(46) [Reserved]

* * * * *

(62) Administer a cooperative agricultural extension program relating to agriculture, uses of solar energy with respect to agriculture, home economics, and rural energy in the District of Columbia (DC Code 38-1202.09).

* * * * *

(102) Implement and administer the Community Food Projects Program, Innovative Programs for Addressing Common Community Problems, and the Healthy Urban Food Enterprise Center pursuant to the provisions of section 25 of the Food and Nutrition Act of 2008 (7 U.S.C. 2034).

* * * * *

(111) [Reserved]

* * * * *

(120) Solicit and consider input and recommendations from persons who conduct or use agricultural research, extension, or education; ensure that Federally supported and conducted agricultural research, extension, and education activities are accomplished in accord with identified management principles; and promulgate regulations concerning implementation of a process for obtaining stakeholder input at 1862, 1890, and 1994 Institutions and Hispanic-serving agricultural colleges and universities (7 U.S.C. 7612(b), (c), and (d)).

* * * * *

(123) Require a procedure to be established by each 1862, 1890, and 1994 Institution and Hispanic-serving agricultural college and university, for merit review of each agricultural research and extension activity funded and review of the activity in accordance with the procedure (7 U.S.C. 7613(e)).

(124) [Removed and reserved]

* * * * *

(142) Administer grants to assist the land-grant university in the District of Columbia to acquire, alter, or repair facilities or relevant equipment necessary for conducting agricultural research (7 U.S.C. 3222b-1).

(143) Administer grants to assist the land-grant institutions in insular areas to acquire, alter, or repair facilities or relevant equipment necessary for conducting agricultural research (7 U.S.C. 3222b-2).

(144) Enter into agreements necessary to administer an Hispanic-Serving Agricultural Colleges and Universities Fund; enter into agreements necessary to administer a program of making annual payments to Hispanic-serving agricultural colleges and universities; administer an institutional capacity-building grants program for Hispanic-serving agricultural colleges and universities; administer a competitive grants program to fund fundamental and applied research at Hispanic-serving agricultural colleges and universities (7 U.S.C. 3243).

(145) Administer the New Era Rural Technology Program to make grants for technology development, applied research, and training to aid in the development of an agriculture-based renewable energy workforce (7 U.S.C. 3319e).

(146) Administer a competitive grants program to assist NLGCA Institutions in maintaining and expanding capacity to conduct education, research, and outreach activities relating to agriculture, renewable resources, and other similar disciplines (7 U.S.C. 3319i).

(147) Administer the Agricultural Bioenergy Feedstock and Energy Efficiency Research and Extension Initiative to enhance the production of biomass energy crops and the energy efficiency of agricultural operations (7 U.S.C. 5925e).

(148) Administer a competitive research and extension grants program to improve the farm management knowledge and skills of agricultural producers and establish and maintain a national, publicly available farm financial management database to support improved farm management (7 U.S.C. 5925f).

(149) Administer the Specialty Crop Research Initiative (7 U.S.C. 7632).

(150) Administer a competitive research and education grants program relating to antibiotics and antibiotic-resistant bacteria (7 U.S.C. 3202).

(151) Administer a competitive grants program to establish and maintain a Farm and Ranch Stress Assistance Network (7 U.S.C. 5936).

(152) Administer a competitive grants program relating to seed distribution (7 U.S.C. 415-1).

(153) Administer a Sun Grants Program (7 U.S.C. 8114).

(154) Administer a competitive grants program relating to agricultural and rural transportation research and education (7 U.S.C. 5938).

(155) Administer a program of providing competitive grants to Hispanic-serving institutions for the purpose of establishing an undergraduate scholarship program to assist in the recruitment, retention, and training of Hispanics and other under-represented groups in forestry and related fields (16 U.S.C. 1649a).

(156) Administer the Biomass Research and Development Initiative (7 U.S.C. 8108(e)).

(157) Administer a competitive grants program to encourage basic and applied research and the development of qualified agricultural countermeasures (7 U.S.C. 8921).

(158) Administer a competitive grants program to promote the development of teaching programs in agriculture, veterinary medicine, and disciplines closely allied to the food and agriculture system to increase the number of trained individuals with an expertise in agricultural biosecurity (7 U.S.C. 8922).

(159) Administer a program of providing grants to Alaska Native serving institutions and Native Hawaiian serving institutions for the purpose of promoting and strengthening the ability of those institutions to carry out education, applied research, and related community development programs (7 U.S.C. 3156).

* * * * *

25. Amend § 2.67 to add new paragraphs (a)(19) and (a)(20), to read as follows:

§ 2.67 Administrator, Economic Research Service.

(a) * * *

(19) Conduct surveys and analysis and publish reports relating to organic production, handling, distribution, retail, and trend studies (including consumer purchasing patterns) (7 U.S.C. 5925c).

(20) Ensure that studies carried out by the Economic Research Service document the number, location, and economic contributions of socially disadvantaged farmers or ranchers in agricultural production (7 U.S.C. 2279(h)).

* * * * *

26. Amend § 2.68 to revise paragraphs (a)(9), (a)(10), and (a)(11), to read as follows:

§ 2.68 Administrator, National Agricultural Statistics Service.

(a) * * *

(9) Take a census of agriculture in 1998 and every fifth year thereafter pursuant to the Census of Agriculture Act of 1997, Public Law 105-113 (7 U.S.C. 2204g); ensure that the census of agriculture documents the number, location, and economic contributions of socially disadvantaged farmers or ranchers in agricultural production (7 U.S.C. 2279(h)).

(10) Develop surveys and report statistical analysis on organically produced agricultural products (7 U.S.C. 5925c).

(11) Assist the Administrator, Agricultural Marketing Service with respect to Dairy Product Mandatory Reporting (7 U.S.C. 1637-1637b).

* * * * *

Subpart L—Delegations of Authority by the Chief Economist

27. Amend § 2.73 as follows:

a. Revise paragraphs (a)(8) and (a)(9); and

b. Add a new paragraph (a)(10), to read as follows:

§ 2.73 Director, Office of Energy Policy and New Uses.

(a) * * *

(8) Administer a competitive biodiesel fuel education grants program (7 U.S.C. 8106).

(9) Implement a memorandum of understanding with the Secretary of Energy regarding cooperation in the application of hydrogen and fuel cell technology programs for rural communities and agricultural producers.

(10) Conduct a study on biofuels infrastructure under section 9002 of the Food, Conservation, and Energy Act of 2008 (Pub. L. 110-246).

* * * * *

Subpart N—Delegations of Authority by the Under Secretary for Marketing and Regulatory Programs

28. Amend § 2.79 as follows:

a. Revise paragraph (a) introductory text; and

b. Add new paragraphs (a)(8)(lxviii), (a)(8)(lxix), (a)(8)(lxx), (a)(8)(lxxi), (a)(8)(lxxii), (a)(8)(lxxiii), (a)(8)(lxxiv), (a)(8)(lxxv), (a)(8)(lxxvi), (a)(13), and (a)(14), to read as follows:

§ 2.79 Administrator, Agricultural Marketing Service.

(a) Delegations. Pursuant to § 2.22(a)(1), (a)(5) and (a)(8), subject to reservations in § 2.22(b)(1), the following delegations of authority are made by the Under Secretary for Marketing and Regulatory Programs to the Administrator, Agricultural Marketing Service:

* * * * *

(8) * * *

(lxviii) Section 7407 of the Farm Security and Rural Investment Act of 2002 (7 U.S.C. 5925c), with respect to the collection and distribution of comprehensive reporting of prices relating to organically produced agricultural products.

(lxix) Livestock Mandatory Reporting (7 U.S.C. 1635-1636i).

(lxx) Section 375 of the Consolidated Farm and Rural Development Act (7 U.S.C. 2008j).

(lxxi) Section 101 of the Specialty Crops Competitiveness Act of 2004 (7 U.S.C. 1621 note).

(lxxii) Section 1502 of the Food, Conservation, and Energy Act of 2008 (7 U.S.C. 8772).

(lxxiii) Section 1509 of the Food, Conservation, and Energy Act of 2008 (Pub. L. 110-246).

(lxxiv) Section 10105 of the Food, Conservation, and Energy Act of 2008 (7 U.S.C. 7655a).

(lxxv) Section 10107 of the Food, Conservation, and Energy Act of 2008 (7 U.S.C. 1622b).

(lxxvi) Section 10403 of the Food, Conservation, and Energy Act of 2008 (7 U.S.C. 1622c).

* * * * *

(13) Administer a program for Dairy Product Mandatory Reporting (7 U.S.C. 1637-1637b), with the assistance of the Administrator, National Agricultural Statistics Service.

(14) Assist the Administrator of the Foreign Agricultural Service with implementing section 3205 of the Food, Conservation, and Energy Act of 2008 (22 U.S.C. 7112 note) regarding the Consultative Group to Eliminate the Use of Child Labor and Forced Labor in Imported Agricultural Products.

* * * * *

29. Amend § 2.80 to add new paragraphs (a)(42), (a)(43), (a)(44), (a)(45), and (a)(46), to read as follows:

§ 2.80 Administrator, Animal and Plant Health Inspection Service.

(a) * * *

(42) Implement the information disclosure authorities of section 1619(b)(3)(A) of the Food, Conservation, and Energy Act of 2008 (7 U.S.C. 8791(b)(3)(A)).

(43) Section 7524 of the Food, Conservation, and Energy Act of 2008 (21 U.S.C. 113a note), except for the suspension, revocation, or other impairment of a permit issued under that section.

(44) Section 10202 of the Food, Conservation, and Energy Act of 2008 (7 U.S.C. 7761).

(45) Section 10204 of the Food, Conservation, and Energy Act of 2008 (7 U.S.C. 7701 note).

(46) Section 14216 of the Food, Conservation, and Energy Act of 2008 (Pub. L. 110-246).

* * * * *

30. Amend § 2.81 as follows:

a. Revise paragraph (a) introductory text;

b. Redesignate paragraphs (a)(6) and (a)(7) as paragraphs (a)(7) and (a)(8), respectively; and

c. Add a new paragraph (a)(6), to read as follows:

§ 2.81 Administrator, Grain Inspection, Packers and Stockyards Administration.

(a) Delegations. Pursuant to §§ 2.22(a)(3) and (a)(9), the following delegations of authority are made by the Under Secretary for Marketing and Regulatory Programs to the Administrator, Grain Inspection, Packers and Stockyards Administration:

* * * * *

(6) Administer responsibilities and functions assigned to the Secretary in section 11006 of the Food, Conservation, and Energy Act of 2008 (7 U.S.C. 228 note), with respect to the Packers and Stockyards Act, 1921.

* * * * *

Subpart P—Delegations of Authority by the Assistant Secretary for Administration

31. Amend § 2.93 to add new paragraphs (a)(19) and (a)(20), to read as follows:

§ 2.93 Director, Office of Procurement and Property Management.

(a) * * *

(19) Make available to organizations excess or surplus computers or other technical equipment of the Department for the purpose of distribution to cities, towns, or local government entities in rural areas (7 U.S.C. 2206b).

(20) In coordination with the Chief Financial Officer, implement the debarment authorities in section 14211 of the Food, Conservation, and Energy Act of 2008 (7 U.S.C. 2209j), in connection with procurement activities.

* * * * *

Dated: January 9, 2009.
For Part 2, Subparts C and D:
Edward T. Schafer,
Secretary of Agriculture.
For Part 2, Subpart F:
Dated: January 12, 2009.
Floyd D. Gaibler,
Acting Under Secretary for Farm and Foreign Agricultural Services.
For Part 2, Subpart G:
Dated: January 12, 2009.
Douglas L. Faulkner,
Acting Under Secretary for Rural Development.
For Part 2, Subpart H:
Dated: January 12, 2009.
H. Scott Hurd,
Acting Under Secretary for Food Safety.
For Part 2, Subpart I:
Dated: January 12, 2009.
Nancy Montanez Johner,
Under Secretary for Food, Nutrition, and Consumer Services.
For Part 2, Subpart J:
Dated: January 13, 2009.
Mark E. Rey,
Under Secretary for Natural Resources and Environment.
For Part 2, Subpart K:
Dated: January 12, 2009.
Gale A. Buchanan,
Under Secretary for Research, Education, and Economics.
For Part 2, Subpart L:
Dated: January 9, 2009.
Joseph Glauber,
Chief Economist.
For Part 2, Subpart M:
Dated: January 12, 2009.
Charles R. Christopherson, Jr.,
Chief Financial Officer.
For Part 2, Subpart N:
Dated: January 9, 2009.
Bruce I. Knight,
Under Secretary for Marketing and Regulatory Programs.
For Part 2, Subpart P:
Dated: January 13, 2009.
Boyd K. Rutherford,
Assistant Secretary for Administration.

[FR Doc. E9-976 Filed 1-16-09; 8:45 am]

BILLING CODE 3410-90-P